DEPARTMENT OF STATE

[Public Notice 3250]

Office of Protocol; Gifts to Federal Employees From Foreign Government Sources Reported to Employing Agencies In Calendar Year 1999

The Department of State submits the following comprehensive listing of the statements which, as required by law, Federal employees filed with their employing agencies during calendar year 1999 concerning gifts received from foreign government sources. The compilation includes reports of both tangible gifts and gifts of travel or travel expenses of more than minimal value, as defined by statute.

Publication of this listing in the Federal Register is required by Section 7342(f) of Title 5, Unites States Code, as added by Section 515(a)(1) of the Foreign Relations Authorization Act, Fiscal Year 1978 (Public Law 95-105, August 17, 1977, 91 Stat. 865).

Dated: March 10, 2000.
Bonnie Cohen,
Under Secretary for Management.

Report of Tangible Gifts
Name and title of person accepting the gift on behalf of the U.S. Government | Gift, date of acceptance on behalf of the U.S. Government, estimated value, and current disposition or location | Identity of foreign donor and government | Circumstances justifying acceptance
Executive Office of The President
President | 40″ x 29″ gilt framed oil painting of an autumn landscape that depicts a shepherd and goats. Recd—October 20, 1998. Est. Value—$1500. Archives Foreign | His Excellency Petru Lucinschi, President of the Republic of Moldova | Non-acceptance would cause embarrassment to donor and U.S. Government.
President | Six bottles of sake. Recd—November 20, 1998. Est. Value—$72. Accepted by Another Government Agency | His Excellency, Keizo Obuchi, The Prime Minister of Japan and Mrs. Obuchi | Non-acceptance would cause embarrassment to donor and U.S. Government.
| Two bonsai trees. One is a 250-year-old Ezo Spruce, $9000. The other is an 80-year-old Trident Maple, $5500. Recd—November 20, 1998. Est. Value—$14500. Accepted by Another Government Agency
President | 49″ tall wood chair with a black leather seat and carved back splat that depicts the Mexican and American flags, an eagle, a snake, and two hands, and reads “USA and Mexico.” Recd—January 15, 1999. Est. Value—$1000. Archives Foreign | Sr. Victor Cervera Pacheco, Governor of Yucatan Mexico | Non-acceptance would cause embarrassment to donor and U.S. Government.
President | (1) Rosary with white glass beads and silver-tone crucifix, $15. (2) Three limited edition Vatican coins: bronze, silver, and 22 kt. gold. Each is 44 mm diameter and is decorated with an image of the Pope and Latin text, $1000. Recd—January 26, 1999. Est. Value—$1015. Archives Foreign | His Holiness John Paul II | Non-acceptance would cause embarrassment to donor and U.S. Government.
President | (1) Paperback. “The Routes of Al-Andalus,” by various authors, $15. (2) Three hardcover books. “The Fires of Excellence,” by Miles Danby, “The Alhambra in Detail,” by Aurelio Cid Acedo, and “American Orientalists,” by Gerald Ackerman, $45. (3) 38″ x 30″ gilt framed and matted series of four etchings, two depict landscapes and two depict buildings in Spain, $600. Recd—February 3, 1999. Est. Value—$660. Archives Foreign | His Majesty Juan Carlos I, King of Spain | Non-acceptance would cause embarrassment to donor and U.S. Government.
President | 31″ x 26″ silver-tone framed and double matted antique map circa 1669 of the United States, Canada, and Greenland; sight size 24″ x 18″. Recd—February 19, 1999. Est. Value—$1200. Archives Foreign | His Excellency Jacques Chirac, President of the French Republic | Non-acceptance would cause embarrassment to donor and U.S. Government.
President | 4″ x 6″ ornate reticulated silver tray. Recd—March 5, 1999. Est. Value—$1400. Archives Foreign | His Excellency Massimo D'Alema and Mrs. D'Alema, President of the Council of Ministers of the Italian Republic | Non-acceptance would cause embarrassment to donor and U.S. Government.
President | (1) 13″ x 22″ ceramic wall hanging that depicts a boy peeking through a cactus, $185. (2) Paperback. “Ceramica,” by Cesar Sermeno, $5. Recd—March 9, 1999. Est. Value—$190. Archives Foreign. | His Excellency Armando Calderon Sol, President of the Republic of El Salvador | Non-acceptance would cause embarrassment to donor and U.S. Government.
| (1) Bottle of Foucher white wine. (2) Bottle of Cousine-Macul cabernet sauvignon. (3) Bottle of Finlandia vodka. (4) Bottle of Johnnie Walker Black Label scotch. (5) Bottle of Corodniu champagne. Recd—March 9, 1999. Est. Value—$120. Accepted by Another Government Agency
President | (1) 9″ bronze sculpture that depicts hands reaching upward, on a 5″ square black wooden base, $500. (2) Two 11″ x 14″ x 6″ inlaid wooden boxes that contain stationery and a black pen, personalized for the President and First lady, $800. (3) Two cases of refill stationery, $400. Recd—March 10, 1999. Est. Value—$1700. Archives Foreign. | His Excellency Alvaro Arzu Irigoyen, President of the Republic of Guatemala | Non-acceptance would cause embarrassment to donor and U.S. Government.
President | (1) 23″ x 16″ paper scroll honoring the President's visit to Honduras, $25. (2) 7″ long silver key, held in a 14″ x 10″ x 4″ wooden box with blue velvet lining, $400. Recd—March 11, 1999. Est. Value—$425. Archives Foreign. | The Honorable Dr. Vilma R. de Castellanos, Mayor of Tegucigalpa, Tegucigalpa, Honduras | Non-acceptance would cause embarrassment to donor and U.S. Government.
President | 18″ x 15″ black wood framed and matted watercolor painting of a white domed building, a fountain, and trees. Recd—March 17, 1999. Est. Value— $1200. Archives Foreign | His Excellency Bertie Ahern, Prime Minister of Ireland | Non-acceptance would cause embarrassment to donor and U.S. Government.
| Dublin crystal oval dish with etching that reads “Presented to Bill Clinton, President of the United States on the Occassion of St. Patrick's Day, 1999, by the Taoesich Bertie Ahern”; approximately 14″ long x 16″ tall x 18″ wide. Recd—March 17, 1999. Est. Value—$1200. Archives Foreign
President | 20″ x 13″ mother-of-pearl and abalone oval shadow box Nativity scene with a horseshoe-shaped crown on top. Inside the crown is an angel and a man. Recd—March 23, 1999. Est. Value—$750. Archives Foreign | Mr. Yasser Arafat, Chairman, Executive Committee of the Palestine Liberation Organization | Non-acceptance would cause embarrassment to donor and U.S. Government.
President | 5″ square x 3″ tall Christian Dior men's burlwood jewelry box with removable top drawer lined with suede, and lid with small gilt handle. Recd—April 23, 1999. Est. Value—$250. Archives Foreign | His Excellency Jacques Chirac, President of the French Republic | Non-acceptance would cause embarrassment to donor and U.S. Government.
President | (1) 6″ x 7″ bronze statute of three men and one woman on a ship, on a marble base, $750. (2) 15″ x 5″ diameter green vase hand-painted with purple and blue stemmed irises, $250. Recd—April 24, 1999. Est. Value—$1000. Archives Foreign | His Excellency Leonid Kuchma, President of Ukrane | Non-acceptance would cause embarrassment to donor and U.S. Government.
President | 5″ x 2″ silver box with lid rimmed with 18 kt. gold border and the seal of Kazakhstan engraved on top. Recd—April 14, 1999. Est. value—$2000. Archives Foreign | His Excellency Nursultan Nazarbayev, President of the Republic of Kazakhstan | Non-acceptance would cause embarrassment to donor and U.S. Government.
President | 8″ tall 14 kt. gold and silver tree with green enamel leaves and grapes, on a 3″ x 6″ marble stand. Recd—April 24, 1999. Est. Value—$2500. Archives Foreign | His Excellency Eduard Shevardnadze, President of Georgia | Non-acceptance would cause embarrassment to donor and U.S. Government.
President | .5 liter bottle of liquor, vintage 1963. Recd—May 3, 1999. Est. Value—$50. Accepted by Another Government Agency | His Excellency Viktor Orban, The Prime Minister of the Republic of Hungary and Mrs. Orban | Non-acceptance would cause embarrassment to donor and U.S. Government.
President | Gilt framed pastel and gold wash painting of Mount Fuji at sunset with a pine forest in the foreground, under glass; sight size 16″ x 20″; signed in calligraphy. Recd—May 3, 1999 Est. Value—$2500. Archives Foreign | His Excellency Keizo Obuchi, The Prime Minister of Japan and Mrs. Obuchi | Non-acceptance would cause embarrassment to donor and U.S. Government.
President | Three bottles of 1995 Szepsy wine. Recd—June 8, 1999. Est. Value—$90. Accepted by Another Government Agency | His Excellency Arpad Goncz, The President of the Republic of Hungary and Mrs. Goncz | Non-acceptance would cause embarrassment to donor and U.S. Government.
President | Handcrafted 32 piece lead crystal chess set. Board is 21″ square with black marble base and crystal top. Each playing piece is 2-3″ tall, one side has a white marble base, the other has a black marble base. Recd—June 22, 1999. Est. Value—$1400. Archives Foreign | His Excellency Dr. Janez Drnovsek, Prime Minister of the Republic of Slovenia | Non-acceptance would cause embarrassment to donor and U.S. Government.
President | 13″ x 27″ wood carving of a bird and two bunches of grapes, with a 2.5″ wooden border. Recd—June 24, 1999. Est. Value—$500. Archives Foreign | His Excellency Ljubco Georgievski, The Prime Minister of the Former Yugoslav Republic of Macedonia and Mrs. Georgievska | Non-acceptance would cause embarrassment to donor and U.S. Government.
President | 65″ x 78″ earth-tone wool tapestry wall hanging reproduction that depicts a city street filled with people. Recd—July 1, 1999. Est. Value—$2500. Archives Foreign | His Excellency Mohamed Hosny Mubarak, President of the Arab Republic Egypt | Non-acceptance would cause embarrassment to donor and U.S. Government.
President | Leather-bound antique book with gilt edging. “The Recovery of Jerusalem,” by Captain Charles Wilson and Captain Warren; original edition published 1871. Recd—July 16, 1999. Est. Value—$700. Archives Foreign | His Excellency Ehud Barak, The Prime Minister of Israel and Mrs. Barak | Non-acceptance would cause embarrassment to donor and U.S. Government.
President | 8″ diameter carved gold chased metal and vermeil tray with tree matching 4″ tall pedestal cordial glasses. Recd—July 27, 1999. Est. Value—$300. Archives Foreign | His Excellency Sergei Stepashin, Chairman of the Government of the Russian Federation | Non-acceptance would cause embarrassment to donor and U.S. Government.
President | Antique leather-bound books. (1) Six volume set of “The World Crisis,” by Winston Churchill, first edition, $2400. (2) “Historic, Military, and Naval Anecdotes,” by Edward Orme; illustrated with hand-colored lithographs, first edition, $3000. (3) “Sonnets,” by the Italian poet Petrarch, hand-illuminated edition, $5000. (4) “Commentaries,” by Caesar, edited by Clark in a large rebacked folio with maps, plans, and plates, $4000. Recd—September 1, 1999. Est. Value—$14400. Archives Foreign | His Majesty Mohamed VI, King of Morocco | Non-acceptance would cause embarrassment to donor and U.S. Government.
| 8″ x 11″ green leather portfolio embossed with the seal of Morocco. Recd—September 1, 1999. Est. Value—$30. Archives Foreign
President | 59″ x 67″ sage, beige, brown, and maroon colored rug titled “Whaka Hura”; limited edition. Recd—September 13, 1999. Est. Value—$2824. Archives Foreign | His Excellency Sir Michael Hardie-Boys, G.C.M.G., Governor General of New Zealand | Non-acceptance would cause embarrassment to donor and U.S. Government.
President | 9″ diameter bronze incense burner with animal head ring handles. Bowl and legs have inlaid lacquer, shell, and mother-of-pearl traditional motifs and figures. Matching lid has open ventilation slots, inlaid folk instruments motif, and is capped with a “fu dog” finial. Burner stands on a tripodial base with plaque that reads “With the compliments from H.E. Mr. Phan Van Khai, Prime Minister, Socialist Republic of Vietnam.” Recd—September 13, 1999. Est. Value—$500. Archives Foreign | His Excellency Phan Van Khai, Prime Minister of the Socialist Republic of Vietnam | Non-acceptance would cause embarrassment to donor and U.S. Government.
President | (1) 8″ x 17″ etched and sand blasted blue crystal canoe, $125. (2) Two woven pouches that contain a greenstone from the Ngai Tahu tribe and a Kauri tree seed, a symbolic tree in New Zealand, $30. (3) 18″ x 18″ x 10″ black wooden box with wool lining and a removable lid with an applied leaf design, $45. Recd—September 13, 1999. Est. Value—$200. Archives Foreign | The Right Honorable Jenny Shipley, P.C., The Prime Minister of New Zealand and Mr. Shipley | Non-acceptance would cause embarrassment to donor and U.S. Government.
President | 24″ x 20″ gilt wood framed and matted impressionist style winter landscape oil painting titled “Vienvra le Temps,” that depicts a hiking man sitting under a tree next to a campfire; painted and signed by Serge Brunoni; sight size 12″ x 16″. Recd—September 30, 1999. Est. Value—$800. Archives Foreign | The Right Honorable Jean Chretien, P.C., M.P., Prime Minister of Canada | Non-acceptance would cause embarrassment to donor and U.S. Government.
President | 11″ tall x 9″ long x 3″ wide solid bronze sculpture of a woodland caribou; signed by artist Huguette Joneas. Recd—October 9, 1999. Est. Value—$1200. Archives Foreign | The Honorable Lucien Bouchard, Prime Minister of the Province of Quebec | Non-acceptance would cause embarrassment to donor and U.S. Government.
President | 14″ cut crystal Valaska Bela vase with a snowflake motif and sawtooth border. Recd—October 9, 1999. Est. Value—$550. Archives Foreign | His Excellency Eduard Kukan, Minister of Foreign Affairs of the Slovak Republic | Non-acceptance would cause embarrassment to donor and U.S. Government.
President | Hardcover book. “The Mosaics of Jordan,” by Michele Piccirillo. Recd—October 12, 1999. Est. Value—$65. Archives Foreign | Their Majesties King Abdullah II and Queen Rania al Abdullah, Jordan | Non-acceptance would cause embarrassment to donor and U.S. Government.
President | 9″ x 10″ long silver model of a single-sailed Norwegian Viking boat, which sits on a 6″ x 7.5″ wooden base with silver plaque. Recd—October 15, 1999. Est. Value—$700. Archives Foreign | His Excellency Kjell Magne Bondevik, Prime Minister of Norway | Non-acceptance would cause embarrassment to donor and U.S. Government.
President | Gilt framed shadow box that contains a gold-tone reproduction of a Panamanian Huaca. Recd—October 19, 1999. Est. Value—$200. Archives Foreign | Her Excellency Mireya Moscoso, President of the Republic of Panama | Non-acceptance would cause embarrassment to donor and U.S. Government.
President | 10.5″ tall x 10″ wide silver eagle with vermeil gold beak and talons, that sits on a wooden base with plaque. Recd—October 28, 1999. Est. Value—$2800. Archives Foreign | His Excellency Olusegun Obasanjo, The President of the Federal Republic of Nigeria and Mrs. Obasanjo | Non-acceptance would cause embarrassment to donor and U.S. Government.
President | (1) Three hardcover books. “Norway,” “The Other Side of Blue,” and “Living in Norway,” $60. (2) 8″ x 10″ framed photograph of King Harald and Queen Sonja, $20. Recd—November 1, 1999. Est. Value—$80. Archives Foreign | Their Majesties, The King and Queen of Norway | Non-acceptance would cause embarrassment to donor and U.S. Government.
| 18″ tall bronze abstract sculpture of a man and woman standing together, titled “Unity,” signed by artist Kjersti, W., that sits on a 8″ x 5.5″ black marble base. Recd—November 1, 1999. Est. Value—$3000. Archives Foreign
President | 15″ x 19″ mother-of-pearl and abalone shadow box Nativity scene. Recd—November 1, 1999. Est. Value—$1000. Archives Foreign | Mr. Yasser Arafat, Chairman, Committee of the Palestine Liberation Organization | Non-acceptance would cause embarrassment to donor and U.S. Government.
President | 16″ x 14″ x 8″ 18 kt. gold mantle clock with Arabic numerals, with a sterling silver Arabian horse with traditional Bahraini dress saddle that stands on a malachite base. Recd—November 3, 1999. Est. Value—$12000. Archives Foreign | His Royal Highness Prince Bandar bin Sultan, Ambassador of Saudi Arabia | Non-acceptance would cause embarrassment to donor and U.S. Government.
President | (1) Hardcover book. “Istanbul,” $50. (2) 12″ silver coffee pot that sits on a 6″ diameter base, with inscription on base that reads “As a memory of visiting Istanbul: Earl Cakir,” $2500. Recd—November 17, 1999. Est. Value—$2550. Archives Foreign | The Honorable Erol Cakir, Governor of Istanbul, The Republic of Turkey | Non-acceptance would cause embarrassment to donor and U.S. Government.
President | 15″ x 9″ ornately carved gold and silver religious icon in the shape of an altar with a picture of the Virgin Mary of Soumela in the center; mounted on an 18″ x 12″ velvet-covered board. Recd—November 22, 1999. Est. Value—$800. Archives Foreign | The Honorable Dimitris L. Avramopoulos, The Mayor of Athens and Mrs. Avramopoulos, The Hellenic Republic | Non-acceptance would cause embarrassment to donor and U.S. Government.
President | (1) 14″ tall x 14″ wide x 6″ deep grey/green carved marble eagle, $1000. (2) 2.5″ diameter silver medallion that depicts a religious man with a beard, with writing around the rim, $50. Recd—November 22, 1999. Est. Value—$1050. Archives Foreign | The Honorable Yordon Sokolov, President, National Assembly, Republic of Bulgaria | Non-acceptance would cause embarrassment to donor and U.S. Government.
| (1) Videotape. “Panorama,” $15. (2) Hardcover book. “120 Years National Assembly 1879-1999,” by the National Assembly in Sofia, $25. Recd—November 22, 1999. Est. Value—$40. Archives Foreign. |  |
President | 28″ x 23″ gilt and peach framed abstract oil painting that depicts a blue cup and a peach block in the lower corner on a navy background; sight size 19″ x 24″. Recd—November 22, 1999. Est. Value—$300. Archives Foreign | His Excellency Petar Stoyanov, The President of the Republic of Bulgaria and Mrs. Stoyanova | Non-acceptance would cause embarrassment to donor and U.S. Government.
President | (1) 31″ x 43″ oil painting on canvas titled “The Well,” in a 49.5″ x 38″ gilt frame. Piece depicts a stone well in a barren landscape of muted grey, blue, and green tones, $3500. (2) Silver medallion engraved with the image of a Ukrainian palace, $50. (3) 3″ x 1″ gold-plated sculpture in the shape of a wand and a crown, all of which sit on a green marble base, $40. (4) 8″ diameter green glass vase with blue, grey, red, and yellow circles and swirls, $250. Recd—December 8, 1999. Est. Value—$3840. Archives Foreign | His Excellency Leonid Kuchma, President of Ukraine | Non-acceptance would cause embarrassment to donor and U.S. Government.
| (1) Bottle of Hetman vodka (2) Bottle of Ukrainian liquor. Recd—December 8, 1999. Est. Value—$65. Accepted by Another Government Agency. |  |
President | (1) Three ceramic coffee canisters, with gold-tone clasps, $60. (2) Small navy blue nylon backpack, $25. (3) Green apron with gold vertical stripes, $30. (4) Green pot holder with gold vertical stripes, $15. (5) Navy blue plastic tote bag with gold stars, $20. (6) Light brown “Millennium Bear” teddy bear, $50. (7) 18″ x 27″ braided wicker basket, $60. (8) 14″ oatmeal and brown Harrods teddy bear with a maroon fleece hat and scarf, $75. (9) 10″ brass and glass coffee pot, $60. (10) Silver corkscrew, $35. (11) Two 7″ silver candlesticks, $60. (12) 9″ crystal decanter with gold trim, $100. (13) Set of four crystal brandy glasses with gold trim, $200. (14) Silver gray ladle, $25. (15) 9″ silver platter, $50. (16) 8″ silver gravy boat, $40. (17) 8″ cream colored cake stand with a green and purple grape and leaf pattern, $75. Recd—December 16, 1999. Est. Value—$980. Archives Foreign | His Majesty Sultan Haji Hassanal Bolkiah Mu' Izzaddin Waddaulah, Sultan and Yang Di-Pertuan of Brunei Darussalam | Non-acceptance would cause embarrassment to donor and U.S. Government.
| Assorted wine, champagne, candles, and food products, all from Harrods. Recd—December 16, 1999. Est. Value—$1200. Accepted by Another Government Agency. |  |
President | Set of 14 kt. gold cuff links and tie clip that bear the seal of Finland. Recd—December 17, 1999. Est. Value—$575. Archives Foreign | His Excellency Martti Ahtisaari, President of Finland | Non-acceptance would cause embarrassment to donor and U.S. Government.
President | Three 29″ diameter circular leather mats and one 11.5′ x 10′ leather floor covering. All items are primarily beige with green stripes and a red and white floral and heart pattern. The three round mats are embroidered to read “Bill Clinton.” Recd—December 18, 1999. Est. Value—$5000. Archives Foreign | His Excellency Jibril Muhammad Aminu, Ambassador of the Federal Republic of Nigeria | Non-acceptance would cause embarrassment to donor and U.S. Government.
President | 10″ x 8″ gold and silver sculpture with a circular flat top lined with small animals and a carved object in the middle, on a blue-green marble/granite base. Recd—December 20, 1999. Est. Value—$1000. Archives Foreign | His Excellency Nursultan Nazarbayev, President of the Republic of Kazakhstan | Non-acceptance would cause embarrassment to donor and U.S. Government.
| (1) Two 18 kt. gold rings attached to a pendant and cuff bracelet by two thin gold chains. All pieces are embedded with turquoise stones, $1800. (2) 12″ x 10″ green marble two-piece sculpture. The sphere has a metal ring that reads “Cooperative Threat Reduction,” which sits in a concave spot on the marble base, $150. (3) Set of 18 kt. gold rectangular cuff links with an intricately carved design on each, $225. Recd—December 20, 1999. Est. Value—$2175. Archives Foreign |  |
President | (1) Case of eight bottles of olive oil. (2) Two 10lb. bags of dates. Recd—December 29, 1999. Est. Value—$200. Accepted by Another Government Agency | His Excellency Zine El-Abidine Ben Ali, The President of the Republic of Tunisia and Mrs. Ben Ali | Non-acceptance would cause embarrasment to donor and U.S. Government.
| 20″diameter x 15″ tall yellow and purple leather ottman storage box. Ottoman is hollow with lid. Inside the ottoman are two 14″diameter x 5″ tall purple and yellow leather trays. Recd—December 29, 1999. Est. Value—$350. Archives Foreign |  |
President and First Lady | (1) Silver brooch with clusters of pearls in the shape of a daisy, $185. (2) 2″ x 8″ x 10″ black lacquer box with gold wheat desing on the lid, $250. Recd—June 22, 1994. Est. Value—$435. Archives Foreign | Their Imperial Majesties The Emperor and Empress of Japan | Non-acceptance would cause embarrassment to donor and U.S. Government.
President and First Lady | (1) 15″ tall porcelain figure of a woman dancer with long brown hair and a white hardened mesh dress standing on a rock surrounded by puffins, $350. (2) 9″ x 7″ gold-tone framed poem titled “Dance In The Wind” $25. (3) 6″ x 4″ white and blue porcelain stand that reads “Dance In The Wind, Limited Edition No. 1, Presented to Hillary Clinton by the City of Limerick, Ireland, 5th of September 1998,” $50. Recd—September 8, 1998. Est. Value—$425. Archives Foreign | Mr. Joe Harrington Mayor of Limerick Ireland | Non-acceptance would cause embarrassment to donor and U.S. Government.
President and First Lady | For the President: 10″ tall off-white carved bone that depicts a warrior wearing a jaguar headdress; a lion's head protrudes from the top of the bone; sitting on a 3″ diameter wooden base, $200. For the First Lady: 1″ x 2″ gold filigree cross pendant, $250. Recd—February 14, 1999. Est. Value—$450. Archives Foreign | The Honorable Licenciado Xavier Abreu Sierra, Presidente Municipal de Merida, Merida, Yucatan Mexico | Non-acceptance would cause embarrassment to donor and U.S. Government.
President and First Lady | For the President: Two volume and antique book set. “The History of the Conquest of Mexico By the Spaniards,” by Don Antonio de Solis, $400. For the First Lady: (1) Book. “Rebuzus de la Collection,” by Robert Everts, $50. (2) Traditional Mexican shawl, $150. Recd—February 15, 1999. Est. Value—$600. Archives Foreign | His Excellency Ernesto Zedillo Ponce de Leon, President of the United Mexican States | Non-acceptance would cause embarrassment to donor and U.S. Government.
President and First Lady | For the President: 15″ x 20″ light yellow/brown traditional Ashanti stool with various shaped carvings, $500. For the First Lady: (1) Three 11″ x 13″ gilt framed and matted shadow boxes containing multicolored cotton traditional Ghanaian cloths, $375. (2) 23″ long yellow traditional Ghanaian beaded a necklace with blue, white, and red stripes, and two 1″ gold tube accents, with a matching bracelet, $100. (3) 18″ long 18 kt. gold link necklace with a 1″ pure gold nugget pendant, and a pair of matching 2″ dangling pierced earrings with .5″ pure gold nuggets at the ends, $1400. Recd—February 23, 1999. Est. Value—$2375. Archives Foreign | His Excellency Flt. Lt. Jerry John Rawlings, (Ret.), The President of the Republic of Ghana and Mrs. Rawlings | Non-acceptance would cause embarrassment to donor and U.S. Government.
President and First Lady | For the President: 20″ x 13″ x 11″ wood lacquered humidor with two drawers, $650. For the First Lady: 1″ x 2″ x 14 kt. gold filigree leaf-shaped brooch, $300. Recd—March 10, 1999. Est. Value—$950. Archives Foreign | His Excellency Arnoldo Aleman, The President of the Republic of Nicaragua and Mrs. Aleman | Non-acceptance would cause embarrassment to donor and U.S. Government.
President and First Lady | For the President: 23″ x 15″ black framed and matted pen sketch of a Warsaw city square; signed by the artist Solom Krosimy, $300. For the First Lady: 90″ x 16″ blue silk table runner with rust, pink, green, tan, and blue floral motif, gold backing, and silver fringe on both ends, $165. Recd—April 23, 1999. Est. Value—$465. Archives Foreign | His Excellency Aleksander Kwasniewski, The President of the Republic of Poland and Mrs. Kwasniewski | Non-acceptance would cause embarrassment to donor and U.S. Government.
President and First Lady | (1) Hardcover book. “Together Towards the New Century: Official Visit of Heydar Aliyev to the United States of America,” $40. (2) Paperback. “NATO and Azerbaijan,” $10. (3) Silver and vermeil wine decanter ewer set with six cups and a platter. 13″ tall decanter has long spout and handle, with blue, white and green floral enamel motif. 3.5″ tall cups have engraved silver floral motif and sit on a gold stem. 16″ x 12″ platter has white, blue, and green floral enamel work on each scalloped end and a silver medallion in the center of the platter surrounded by a gold engraved background, $2500. (4) Silver and vermeil tea set with six settings and a black and white enamel floral motif; that includes 8.5″ tall teapot with gold spout, handle, and attached lid; 3″ diameter gold saucers; 1.5″ tall x 2.5″ diameter teacups; 3.5″ long spoons; 13″ diameter platter with silver rim, gold trimmed circle of black and white enamel work at the center, $3000. Recd—April 24, 1999. Est. Value—$5550. Archives Foreign | His Excellency Heydar Aliyev, President of the Republic of Azerbaijan | Non-acceptance would cause embarrassment to donor and U.S. Government.
President and First Lady | For the First Lady: 4″ x 7″ round crystal bowl with geometric and vine motif, $350. For the President: 30″ x 34″ brown framed and double matted 22″ x 26″ print of a crane in red and black, titled “Radiant Loon”; signed by the artist Kenojuak; numbered 15/50, $1000. Recd—April 24, 1999. Est. Value—$1350. Archives Foreign | The Right Honorable Jean Chretien, P.C., M.P., The Prime Minister of Canada and Mrs. Chretien | Non-acceptance would cause embarrassment to donor and U.S. Government.
President and First Lady | For the First Lady: (1) 13″ x 9″ round silver vessel with a floral and bird relief. Vessel has a hinged lid with a gold spiral leaf finial, $1200. (2) 48″ x 96″ rust, orange, blue, and tan Vakko silk scarf with a geometric and floral motif, $150. (3) Two silver frames with a rope border, a name plate of donor, and the Turkish crest, each including photographs inscribed by the donor, $600. For the President: Large hardcover book “Istanbul Capital of Empires,” by Ertug, $200. Recd—April 24, 1999. Est. Value—$2150. Archives Foreign | His Excellency Suleyman Demirel, The President of the Republic of Turkey and Mrs. Demirel | Non-acceptance would cause embarrassment to donor and U.S. Government.
President and First Lady | (1) Six place settings, including a four piece silver flatware set with a symbol that depicts an eagle at the bottom of each piece, $3300. (2) 13″ brass Chillim pipe that has turquoise beads in a floral motif, $300. (3) 19″ long wooden flute with mother-of-pearl inlay floral design, $175. Recd—April 24, 1999. Est. Value—$3775. Archives Foreign | His Excellency Islam Karimov, President of the Republic of Uzbekistan | Non-acceptance would cause embarrassment to donor and U.S. Government.
President and First Lady | For the President: 9″ diameter bronze plate with silver overlay and crest in the center and an etched signature, $300. For the First Lady: 3″ x 3″ silver model of a domed church, $250. Recd—April 24, 1999. Est. Value—$550. Archives Foreign | His Excellency Petar Stoyanov, The President of the Republic of Bulgaria and Mrs. Stoyanova | Non-acceptance would cause embarrassment to donor and U.S. Government.
President and First Lady | 43″ x 30″ gilt framed pencil sketch of butterflies, pink roses, orchids, and seven face profiles with a 5″ x 3″ square cut out in the center of the piece with sketches of five additional profiles. Recd—April 28, 1999. Est. Value—$750. Archives Foreign | His Excellency Vaclav Havel, President of the Czech Republic | Non-acceptance would cause embarrassment to donor and U.S. Government.
President and First Lady | (1) 4′ x 8′ red hand-woven wool rug with green, black, blue, and yellow vertical stripes, $800. (2) 4′ x 3′ black wood framed painting titled “Spring/Winter,” that is divided into two halves, one half has blue paint splatters and a blue horizontal stripe, other half has yellow paint splatters and a yellow horizontal stripe, $1200. (3) 72″ x 28″ rust and mustard colored silk shawl with a gold braided border and nine embroidered flowers with stems standing vertically from the base, $400. Recd—May 18, 1999. Est. Value—$2400. Archives Foreign | Their Majesties King Abdullah II and Queen Rania al Abdullah, Jordan | Non-acceptance would cause embarrassment to donor and U.S. Government.
President and First Lady | For the First Lady: 16″ long Gilbert Albert black leather necklace with silver pendant that depicts three conch shells with a pink pearl in the center, $450. For the President: 10″ dark wood Gilbert Albert letter opener with two silver conch shells and one small pink pearl on the end, $300. Recd—June 16, 1999. Est. Value—$750. Archives Foreign | The Honorable Pierre Muller, Mayor of Geneva, Switzerland | Non-acceptance would cause embarrassment to donor and U.S. Government.
President and First Lady | For the President: 9″ square wooden Hermes picture frame with burgundy leather hinge that opens to display two 4.5″ square pictures, $200. For the First Lady: 18 kt. gold Claude Lalanne floral brooch depicting a dogwood blossom, $750. Recd—June 17, 1999. Est. Value—$950. Archives Foreign | His Excellency Jacques Chirac, President of the French Republic | Non-acceptance would cause embarrassment to donor and U.S. Government.
President and First Lady | For the President: Silver-plated Waterman “Night and Day” fountain pen that has silver and black horizontal stripes and black tips, $345. For the First Lady: 9.5″ tall x 4″ diameter cobalt blue porcelain vase with gilt fleur-de-lis accents and gilt rim, $300. Recd—June 17, 1999. Est. Value—$645. Archives Foreign | His Excellency Lionel Jospin, The Prime Minister of the French Republic and Mrs. Jospin | Non-acceptance would cause embarrassment to donor and U.S. Government.
President and First Lady | 10″ tall white cloisonne vase with gold trim and adorned with green, blue, and pink flowers, that sits on a silver base. Recd—July 3, 1999. Est. Value—$300. Archives Foreign | His Excellency Kim Dae-jung, The President of the Republic of Korea and Mrs. Kim | Non-acceptance would cause embarrassment to donor and U.S. Government.
President and First Lady | (1) 11″ tall black hand-woven handbag with a pink, yellow, and green floral motif with drawstring closure and a woven shoulder strap, $50. (2) 100″ x 95″ ornate white hand-woven hammock with braided fringe and a peacock motif on the edges, $450. Recd—September 21, 1999. Est. Value—$500. Archives Foreign | His Excellency Andres Pastrana, The President of the Republic of Colombia and Mrs. Pastrana | Non-acceptance would cause embarrassment to donor and U.S. Government.
President and First Lady | (1) 15″ x 22″ mother-of-pearl and abalone shadow box Nativity scene that reads “Bethlehem 2000″ across the front, $1000. (2) 16″ 18kt. gold hourglass link necklace with hexagonal diamond pendant with a blue sapphire in lower center, $5000. Recd—September 23, 1999. Est. Value—$6000. Archives Foreign | Mr. Yasser Arafat, Chairman, Executive Committee of the Palestine Liberation Organization | Non-acceptance would cause embarrassment to donor and U.S. Government.
President and First Lady | 23″ tall ceramic vase in blue, green, white, and gold pattern with gold around the rim and base. Recd—October 12, 1999. Est. Value—$300. Archives Foreign | Their Majesties King Abdullah II and Queen Rania al Abdullah, Jordan | Non-acceptance would cause embarrassment to donor and U.S. Government.
| 46″ x 29″ tile mosaic depicting the Church of St. Stephen on a beige background with yellow, rust, black, and brown. Recd—October 12, 1999. Est. Value—$3500. Archives Foreign
President and First Lady | For the President: 53″ x 41″ gilt wood framed and matted dot painting of the President wearing a black suit and a red and blue striped tie with a red and yellow background; sight size 36″ x 25″, $100. For the First Lady: Two traditional Nigerian silk outfits, each includes a mesh silk shirt and three wraps. One wrap measures 88″ x 50″, one measures 44″ x 27″, and the other measures 21″ x 74″. The first outfit is beige with gold and blue weaving, blue vertical stripes, and gold diagonal stripes with gold fringe, $360. The second outfit is silk with gold and brown weaving, pink and gold flowers, brown, gold, and red horizontal stripes and gold fringe, $310. Recd—October 28, 1999. Est. Value—$770. Archives Foreign | His Excellency Olusegun Obasanjo, The President of the Federal Republic of Nigeria and Mrs. Obasanjo | Non-acceptance would cause embarrassment to donor and U.S. Government.
President and First Lady | (1) Two 42″ x 91″ and 42″ x 150″ black, rust, and cream silk sarees with an exotic print, $300. (2) 24″ square wood framed 3-dimensional wood carving that depicts a female Hindu Goddess playing a sitar in a forest setting, $1000. (3) 11″ diameter orange alabaster bowl with silver banding on the outside rim that sits on a wooden base, $600. Recd—November 12, 1999. Est. Value—$1900. Archives Foreign | His Excellency Abdurrahman Wahid, The President of the Republic of Indonesia and Mrs. Wahid | Non-acceptance would cause embarrassment to donor and U.S. Government.
President and First Lady | For the First Lady: 12″ x 9″ silver oval hanging mirror with silver chain, scalloped edges and raised heart motif on the back, $700. For the President: White album of photographs commemorating the President and First Lady's State Visit to Ankara, Turkey, $50. Recd—November 15, 1999. Est. Value—$750. Archives Foreign | His Excellency Suleyman Demirel, The President of the Republic of Turkey and Mrs. Demirel | Non-acceptance would causeembarrassment to donor and U.S. Government.
President and First Lady | (1) 18 kt. gold brooch with grape leaf motif that reads “2000,” $450. (2) Three butterfly pins, one large silver, one medium gold, and one small silver, $250. (3) Paperback. “Tsitouras: Discover the Tsitouras Collection 1999,” $15. (4) Pair of 18″ tall ornately engraved silver candlesticks on a tripodial base with clawed feet, $8000. Recd—November 17, 1999. Est. Value—$8715. Archives Foreign | His All Holiness Bartholomew Archbishop of Constantinople, New Rome and Ecumenical Patriarch | Non-acceptance would cause embarrassment to donor and U.S. Government.
| 21″ x 15″ unframed religious paper with four gold leaf squares of Jesus at various stages in his life and Turkish writings in the background. Recd—November 17, 1999. Est. Value—$800. Archives Foreign
| Two paperbacks. “Conversations With Ecumenical Patriarch Bartholomew I,” by Oliver Clement, and “The Orthodox Church and the Environment,” by Athena Schina. Recd—November 17, 1999. Est. Value—$35. Archives Foreign |  |
President and First Lady | For the President: (1) Paperback. “Coins and Numismatics,” published by the Hellenic Ministry of Culture and the Numismatic Museum, $25. (2) Three laminated pamphlets. “Archaic Horsemen of the Acropolis,” $5. (3) Large hardcover book about ancient artifacts, written in Greek, $75. For the First Lady: Hardcover book. “Greek Jewellery[sic]: 6,000 Years of Tradition,” published by The Archaeological Receipts Fund, $50. Recd—November 19, 1999. Est. Value—$155. Archives Foreign | Her Excellency Elisavet Papazoi, Minister of Culture of the Hellenic Republic | Non-acceptance would cause embarrassment to donor and U.S. Government.
| For the President: (1) Four ancient silver Greek coins, $200. (2) 7″ tall composition replica bust of a young boy titled “The Head of Eros,” on a 3″ square wooden base, $50. (3) Paperback. “The Monuments of the Acropolis,” by Maria Brouskari, $20. For the First Lady: Gold-plated eight-petaled rosette brooch, $65. Recd—November 19, 1999. Est. Value—$335. Archives Foreign |  |
President and First Lady | For the First Lady: 8″ x 6″ silver Hellenistic Water-Jug pitcher with scrolled handle and spout that resembles a leather sac, $1200. For the President and First Lady: (1) Hardcover book. “The Olympic Games in Ancient Greece,” edited by Nicolaos Yalouris, $40. (2) 24″ x 11″ x 1″ off-white ceramic reproduction of an ancient relief that depicts two youths playing hockey with four onlookers, $175. Recd—November 20, 1999. Est. Value—$1415. Archives Foreign | His Excellency Constantine Simitis, The Prime Minister of the Hellenic Republic and Mrs. Simitis | Non-acceptance would cause embarrassment to donor and U.S. Government.
First Family | For the First Family: (1) 66″ x 65″ cherry wood framed and matted color sketch of the First Family at the Great Wall of China, $4000. (2) Hardcover book. “The Life and Works of Wang Yingchun and Yang Lizhou,” $30. For the First Lady: Four silk shirts, one short sleeve with green and white stripes, two short sleeve with tan and white stripes, and one tan long sleeve, $160. Recd—April 8, 1999. Est. Value—$4190. Archives Foreign | His Excellency Zhu Rongji, The Premier of the State Council of the People's Republic of China and Madame Lao | Non-acceptance would cause embarrassment to donor and U.S. Government.
First Family | For the President: Paperback. “The Exhibition of Hohrin Fukuoji,” $100. For the First Lady: (1) 12″ x 9″ black lacquer letter box with gold and pink flowers painted on lid, $600. (2) 76″ x 16″ silk shawl, half black, half white, with a silk rose and leaf on each end, $200. (3) 21″ x 18″ silver blue framed and matted Japanese poem written in charcoal, made by Mrs. Obuchi, $500. For Chelsea Clinton: 5″ x 4″ brass Mikimoto frame inlaid with lapis and two cultured pearls, $300. Recd—May 3, 1999. Est. Value—$1700. Archives Foreign | His Excellency Keizo Obuchi, The Prime Minister of Japan and Mrs. Obuchi | Non-acceptance would cause embarrassment to donor and U.S. Government.
First Family | (1) 25″ x 18″ framed impression of 200 nails on white flat paper, enclosed in a 33″ x 27″ plexiglass case; signed by artist Ueker, $2500. (2) Large hardcover book. “Ueker,” inscribed by artist, $30. (3) Two 80″ x 30″ black cashmere Jil Sander scarves, $1000. Recd—June 16, 1999. Est. Value—$3530. Archives Foreign | His Excellency Gerhard Schroeder, The Chancellor of the Federal Republic of Germany and Mrs Schroeder | Non-acceptance would cause embarrassment to donor and U.S. Government.
First Family | For the President and First Lady: Set of 12 handblown clear crystal wine glasses by Oskar Kogoj, each with unique colored stem design. Three 6″ tall, six 8″ tall, and three 10″ tall. Five of the glasses have a flared cone base, $600. For the President: Hardcover book. “Ljubljana: A Pictorial Chronicle of a Capital City,” by Marko Habic, $40. For the First Lady: (1) Hardcover book. “Nature Design,” written and inscribed by Oskar Kogoj, $40. (2) Hardcover book. “Ljubljana: City of Culture,” by Bojana Leskovar, $20. For Chelsea Clinton: Hardcover book. Recd—June 21, 1999. Est. Value—$740. Archives Foreign | The Honorable Viktorija Potocnik, Mayor of Ljubljana Slovenia | Non-acceptance would cause embarrassment to donor and U.S. Government.
First Family | For the President: (1) 14″ x 10″ reproduction of the first Slovenian Bible, circa 1584, with brown leather cover. The Bible is stored in a 15″ x 12″ engraved wooden box, $250. For the First Lady: 16″ x 42″ cream colored intricately woven doily table runner with scalloped edges, $100. For the President and First Lady: Two brown leather photo albums commemorating the President and First Lady's trip to Slovenia, June 1999, $150. For Chelsea Clinton: (1) Hardcover book. “Slovenske Krajine,” by Dusan Ogrin; inscribed by Ana and Spela Kucan, $30. (2) Paperback, “Krajine/Landscapes,” written and inscribed by Ana Kucan, $20. (3) Small silver dove pendant on a silver chain, $50. Recd—June 22, 1999. Est. Value—$600. Archives Foreign | His Excellency Milan Kucan, The President of the Republic of Solvenia and Mrs. Kucan | Non-acceptance would cause embarrassment to donor and U.S. Government.
First Family | For the President: (1) Black and green wool and viscose baseball cap that reads “Ireland,” $20. (2) Grey, blue, and black wool fisherman's sweater, $85. (3) Pair of 18 kt. gold Cartier cuff links in the shape of a car's head with emerald eyes and onyx nose, $1500. For the First Lady: Pair of Saks Fifth Avenue 18kt. white gold loop earrings encircled with gold and diamonds, $4000. For Chelsea Clinton: 18kt. gold Tiffany & Co. charm bracelet with five charms depicting starfish and hearts, $1200. Reed—July 5, 1999. Est. Value—$6805. Archives Foreign | His Excellency Nawaz Sharif, Prime Minister of the Islamic Republic of Pakistan | Non-acceptance would cause embarrassment to donor and U.S. Government.
First Family | For Chelsea Clinton: (1) 16″ sliver red carnelian beaded necklace with eight carved seals and a flat oval red stone pendant, $400. (2) 70″ square purple, blue, and fuchsia silk scarf with a white circular pattern, $100. (3) 7″ purple satin purse with purple fringe and metal sequins, $30. For the First Lady: (1) 54″ x 16″ hand printed gold, orange, blue, turquoise, and black silk scarf, $60. (2) 3″ silver brooch with a 1″ lapis stone and a small red coral stone, $200. (3) 16″ carved silver serving tray with handles; attached to tray by a ribbon are 10 embroidered napkins, $550. For the President: (1) 9″ diameter scalloped silver serving bowl and lid with carved silver flower finial, $450. (2) 4″ tall scalloped silver creamer with handle and matching 6″ diameter drip plate, $450. (3) 54″ x 60″ red, blue, green, gold, black, and orange handwoven Anatolian wool rug with braided fringe, $2000. (4) Two large hardcover copies of the book “Anatolian Carpet,” $50. (5) Leather-bound book. “Architecture of the Ottoman Empire,” $375. (6) Paperback. “Turkish Handwoven Carpets,” $50. Recd—September 28, 1999. Est. Value—$4715. Archives Foreign | His Excellency Bulent Ecevit, Prime Minister of the Republic of Turkey | Non-acceptance would cause embarrassment to donor and U.S. Government.
First Family | For Chelsea Clinton: Silver five piece mirror/hairbrush set with raised floral pattern. Set includes a 9.5″ handheld mirror, a 7″ comb, a 9″ oval brush with handle, a 7″ oval lint brush, and a 3″ powder box with lid, $1200. For the First Lady: Large silk-covered book. “Silks for the Sultans,” by Ahmet Ertug, $150. For the President: (1) Large fabric-covered book. “In Pursuit of Excellence,” by Ahmet Ertug, $125. (2) Set of seven commemorative Turkish coins, one 25 lira gold, and six 3,000,000 lira silver. All read “75 C 1923-1998,” $300. (3) Turkish State Award. Award consists of (a) White enamel and gold trimmed starburst medallion that hangs from a white eagle and olive branches, attached to a red and white striped ribbon. (b) Black leather and velvet portfolio that contains a certificate signed by President Demirel, $500. Recd—November 15, 1999. Est. Value—$2275. Archives Foreign | His Excellency Suleyman Demirel, The President of the Republic of Turkey and Mrs. Demirel | Non-acceptance would cause embarrassment to donor and U.S. Government.
First Family | 5.5″ long antique silver floral-motif handheld mirror, with six small lapis stones embedded on the front and one larger lapis stone embedded on the back, $200 (2) 16″ x 5″ x 9.5″ light green wooden box with gilt square accents on the top, each square painted with moon and berry designs; lined with tan velvet, $75. Recd—November 15, 1999. Est. Value—$275. Archives Foreign | His Excellency Bulent Ecevit, Prime Minister of the Republic of Turkey | Non-acceptance would cause embarrassment to donor and U.S. Government.
| (1) 10″ square silk handkerchief trimmed with blue handstitched lace, $50. (2) Handmade 10″ long fork and spoon set made of black horn, inlaid with two stripes of bone and silver on the handles and dots on the tips, $40. (3) 67″ x 17″ handwoven white silk shawl with gold thread floral pattern and white silk fringe on each end, $175. Recd—November 15, 1999. Est. Value—$265. Archives Foreign | His Excellency Bulent Ecevit, Prime Minister of the Republic of Turkey | Non-acceptance would cause embarrassment to donor and U.S. Government.
First Family | (1) 40″ x 40″ hand-embroidered linen tablecloth with an embroidered floral design in each of the corners and a 1″ gold colored lace doiley trimming the edges, $175. (2) Three hardcover copies of “Ataturk's Izmir Days,” complied by Izmir Valiligi, $150. (3) 42″ x 70″ dark multi-colored burlap kilim with fringed ends, displaying a Turkish design of different abstract shapes, $450. For Chelsea Clinton: 9″ x 9″ black velvet handmade Turkish drawstring handbag with a 3″ diameter gold and silver embroidered emblem and a thin rope shoulder strap, $50. Recd—November 16, 1999. Est. Value—$825. Archives Foreign | The Honorable Kemal Nehrozoglu, Governor of the Province Izmir | Non-acceptance would cause embarrassment to donor and U.S. Government.
First Family | For the First Lady: 18kt. gold bangle bracelet with a lion head on each end, $1200. For Chelsea Clinton: 7″ silver necklace with a 1″ round sodalite pendant, $225. For the President: (1) 9″ diameter x 1.5″ deep silver bowl engraved with a signature and the seal of Greece, $1000. (2) Two. 4.5″ tall hand-hammered silver cups with raised olive branch relieve under the rim. Each cup is 5″ in diameter and sits on a pedestal base, $3,000. Recd—November 19, 1999. Est. Value—$5425; Archives Foreign | His Excellency Constantinos Stephanopoulos, President of the Hellenic Republic | Non-acceptance would cause embarrassment to donor and U.S. Government.
First Lady | 26″ x 26″ gilt framed and white matted oil portrait of a man wearing a maroon and brown coat, by Carmelo de Arzadun. Recd—October 4, 1998. Est. Value—$3000. Archives Foreign | His Excellency Dr. Julio Maria Sanguinetti, President of the Oriental Republic of Uruguay | Non-acceptance would cause embarrassment to donor and U.S. Government.
First Lady | (1) Two 4″ tall six-sided pots, $40. (2) Two 2″ tall six-sided cache pots, $20. (3) 5″ tall x 10″ diameter red metal bowl with gold trim, $20. (4) 8″ tall x 13″ diameter wooden box covered with blue and multicolored cotton fabric, $10. Recd—February 19, 1999. Est. Value—$90. Archives Foreign | His Excellency Jacques Chirac, President of the French Republic | Non-acceptance would cause embarrassment to donor and U.S. Government.
First Lady | 73″ x 18″ grey silk and rayon scarf with a striped and floral pattern. Recd—March 17, 1999. Est. Value—$245. Archives Foreign | His Excellency Bertie Ahern, Prime Minister of Ireland | Non-acceptance would cause embarrassment to donor and U.S. Government.
First Lady | 2″ x 3″ 18 kt. gold florentine scarab pendant with blue inlay accents. Recd—March 24, 1999. Est. Value—$1200. Archives Foreign | General Selmy Selim, President of Supreme Council, Egypt | Non-acceptance would cause embarrassment to donor and U.S. Government.
| 25″ tall cream Egyptian alabaster vase inlaid with turquoise, lapis, and limestone banding. Recd—March 24, 1999. Est. Value—$1200. Archives Foreign |  |
First Lady | 39″ diameter mosaic that depicts a man wearing a fruit and leaf crown, with a 7″ wide border that depicts fruit and leaves. Recd—March 26, 1999. Est. Value—$2500. Archives Foreign | The Honorable Muhammid El Hashim Guedria, Governor of Mahidia, The Republic of Tunisia | Non-acceptance would cause embarrassment to donor and U.S. Government.
First Lady | 26″ coral graduated bead necklace with a 7″ matching bracelet and 2″ tear-drop clip-on earrings. Recd—March 31, 1999. Est. Value—$1500. Archives Foreign | Mrs. Leila Ben Ali, Office of the President of the Republic of Tunisia | Non-acceptance would cause embarrassment to donor and U.S. Government.
First Lady | 48″ square red and white silk Hermes scarf, permanently creased accordion style. Recd—April 23, 1999. Est. Value—$175. Archives Foreign | His Excellency Jacques Chirac, President of the French Republic | Non-acceptance would cause embarrassment to donor and U.S. Government.
First Lady | 25″ x 32″ gilt floral framed and matted cotton pastel drawing that is predominantly pink, white, blue, yellow, and black and depicts a woman walking away from a man; titled “Street Scene in Rome”, by Zurab NizRaradze. Recd—April 24, 1999. Est. Value—$400. Archives Foreign | His Excellency Eduard Shevardnadze, President of Georgia | Non-acceptance would cause embarrassment to donor and U.S. Government.
First Lady | 12″ x 8″ white Herend porcelain serving bowl bordered in mint green and gold with yellow and green flowers and butterfly motif. Recd—May 3, 1999. Est. Value—$450. Archives Foreign | His Excellency Viktor Orban, The Prime Minister of the Republic of Hungary and Mrs. Orban | Non-acceptance would cause embarrassment to donor and U.S. Government.
First Lady | (1) 80″ x 20″ orange silk shawl with red and gold embroidered paisley design and orange tassles on both ends, $400, (2) 54″ long purple silk dress with purple and gold embroidered flowers and multicolored applique on the sleeves, neck, and sides, $600. Recd—May 18, 1999. Est. Value—$1000. Archives Foreign | His Excellency Abdul Kareem Kabariti, The Chief of the Royal Court and Mrs. Kabariti, Amman, Jordan | Non-acceptance would cause embarrassment to donor and U.S. Government.
First Lady | (1) 12″ x 7″ white Herend porcelain urn with gilt trim, pink and green flowers and butterfly motif, and matching lid with yellow rose finial, $1400. (2) 22″ x 11″ green velour table runner with gold trim and a 5″ diameter needle-pointed rose in the center, $100. Recd—June 8, 1999. Est. Value—$1500. Archives Foreign | His Excellency Arpad Goncz, The President of the Republic of Hungary and Mrs. Goncz | Non-acceptance would cause embarrassment to donor and U.S. Government.
First Lady | (1) 26″ x 9″ x 9″ carved red wooden statue depicting a woman carrying a baby in her arms and a bowl of fruit on her head, $475. (2) 20″ silver beaded necklace with amber stones, $40. (3) 25″ necklace with rust color seed beads, $65. (3) 9″ irregularly shaped box covered in pink leather, $10. (4) 6′ square cotton/linen blend blanket with white stitching, $75. Recd—June 11, 1999. Est. Value—$665. Archives Foreign | Mrs. Marguerite Kerekou, First Lady of Benin | Non-acceptance would cause embarrassment to donor and U.S. Government.
First Lady | 34″ tall silver-plated samovar with black wood finial lid, two wood side handles, and floral relief. Recd—June 23, 1999. Est. Value—$1300. Archives Foreign | Maitre Mohamed Debbagh, President of the Municipal Council Fez, Morocco | Non-acceptance would cause embarrassment to donor and U.S. Government.
First Lady | (1) 30″ ornate gold and silver vermeil belt with an ornate buckle depicting St. George and the Dragon, $1200. (2) 10″ tall silver pitcher with large spout, pedestal base, and curled handle, $1200. Recd—June 23, 1999. Est. Value—$2400. Archives Foreign | The Honorable Leoluca Orlando, Mayor of Palermo, Italy | Non-acceptance would cause embarrassment to donor and U.S. Government.
First Lady | 2″ silver brooch with an oval mother-of-pearl center. Recd—June 24, 1999. Est. Value—$135. Archives Foreign | His Excellency Ljubco Georgievski, The Prime Minister of the Former Yugoslav Republic of Macedonia and Mrs. Georgievska | Non-acceptance would cause embarrassment to donor and U.S. Government.
First Lady | Two 14″ x 12″ 18 kt. gold and platinum picture frames with filigree motif and set with amethyst, topaz, garnet, jade, and acquamarine stones. Each hold an 8″ x 10″ photograph. One photograph is of the First Lady and the former King of Morocco. The other is of the former King of Morocco, the First Lady, and Chelsea Clinton walking. Both are inscribed by the former King. Recd—September 7, 1999. Est. Value—$15000. Archives Foreign | His Majesty Mohamed VI, King of Morocco | Non-acceptance would cause embarrassment to donor and U.S. Government.
First Lady | 21″ Benin gilt bronze head of a woman with rings around her neck, on a 4″ green stand. Recd—September 16, 1999. Est. Value—$1000. Archives Foreign | Mrs. Stella Obasanjo, First Lady of the Federal Republic of Nigeria | Non-acceptance would cause embarrassment to donor and U.S. Government.
First Lady | (1) 19.5″ silver square link necklace with yellow amber stones. (2) ¾″ silver square shaped earrings with yellow amber stones. (3) 8″ silver square link bracelet with yellow amber stones. Recd—October 6, 1999. Est. Value—$350. Archives Foreign | His Excellency Bronislaw Geremek, Minister of Foreign Affairs of the Republic of Poland | Non-acceptance would cause embarrassment to donor and U.S. Government.
First Lady | (1) 5″ bronze statue of a man on a 1.5″ black marble stand, by Zofia Wolslka, $3000. (2) Silver medallion depicting the profile of Fryderyk Chopin and his signature, $35. (3) Compact disc. “Chopin Year 1999,” $15. (4) Hardcover book. “Spotkania z Chopinem,” by Edward Hartwig, $45. Recd—October 6, 1999. Est. Value—$3095. Archives Foreign | His Excellency Aleksander Kwasniewski, President of the Republic of Poland | Non-acceptance would cause embarrassment to donor and U.S. Government.
First Lady | (1) Hardcover book. “Slovensko v Obrazoch,” by Remedium, $50. (2) Hardcover book. “Slovakia,” compiled by Eugen Lazistan, $25. (3) Silver medallion that depicts a castle and reads “Prezidentsky Palac v Bratislve,” $35. (4) 3″ antique pottery oil lamp, $75. (5) 4″ antique pottery jug, $100. (6) 3″ antique pottery oil lamp, $75. Items 4-6 are contained on an 11″ x 6″ wooden stand with a gold-tone plaque that reads “Roman Period 63 B.C.E. 330 C.E” with a plastic lid. (7) 24″ x 24″ handwoven cream colored fiber wall hanging with floral design in a gold-tone wooden loom, $150. (8) 27″ x 20″ brightly colored oil painting on canvas that depicts a farm scene with people working, $350. (9) Blue glass tea set with hand-painted pink, yellow, and blue flowers and 24 kt. gold accents. Set includes a teapot, cream pitcher, sugar dish, six teacups, and six saucers, $600. Recd—October 6, 1999. Est. Value—$1460. Archives Foreign | His Excellency Rudolf Schuster, The President of the Slovak Republic and Mrs. Schusterova | Non-acceptance would cause embarrassment to donor and U.S. Government.
First Lady | 4″ blue, gold, white, orange, and yellow kelandic glass figure on a 3″ clear glass stand that reads “Forseti Islands.” Recd—October 8, 1999. Est. Value—$300. Archives Foreign | His Excellency Olafur Ragnar Grimsson, President of the Republic of Iceland | Non-acceptance would cause embarrassment to donor and U.S. Government.
First Lady | 10″ cut crystal table Valaska Bela basket with a snowflake motif. Recd—October 9, 1999. Est. Value—$300. Archives Foreign | His Excellency Eduard Kukan, Minister of Foreign Affairs of the Slovak Republic | Non-acceptance would cause embarrassment to donor and U.S. Government.
First Lady | Black onyx bead necklace with a pendant of four 14 kt. gold frogs and a pair of matching earrings. Recd—October 19, 1999. Est. Value—$1200. Archives Foreign | Her Excellency Mireya Moscoso, President of the Republic of Panama | Non-acceptance would cause embarrassment to donor and U.S. Government.
First Lady | Two ornate brass lamps, 58″ in height and 27″ in diameter. Lamps have rectangular glass panels with hinge doors that open and have eight sockets inside, on a brass stand. Lamps are an arabesque, traditional Middle Eastern pattern. Recd—October 26, 1999. Est. Value—$6000. Archives Foreign | His Majesty Mohamed VI, King of Morocco | Non-acceptance would cause embarrassment to donor and U.S. Government.
First Lady | (1) 18 kt. white gold and diamond 16″ necklace with center pendant of seven diamonds, $8500. (2) Pair of open-work 18 kt. white gold and diamond clip-on earrings, $1200. Recd—November 17, 1999. Est. Value—$9700. Archives Foreign | Their Majesties King Abdullah II and Queen Rania al Abdullah, Jordan | Non-acceptance would cause embarrassment to donor and U.S. Government.
| (1) 13″ x 13″ x 2″ beige ceramic dish with four trees etched in the center in a darker beige tone, $150. (2) 16″ x 12″ red leather book of photographs commemorating the First Lady's visit to Jordan, $225. (3) 76″ x 48″ cream colored woven rug with three brown, green, and gold trees and cream colored fringe at each end, $675. Recd—November 17, 1999. Est. Value—$1050. Archives Foreign
First Lady | 80″ x 36″ blue, red, green, black, and white patterned handwoven Turkish rug with cream colored fringe. Recd—November 18, 1999. Est. Value—$600. Archives Foreign | The Honorable Ertugrul Dokuzoglu, Governor of the Province of Antalya, Turkey | Non-acceptance would cause embarrassment to donor and U.S. Government.
| 40″ x 17″ cream colored silk table runner with blue, pink, gold, and green floral embroidery on the ends and silver sequins along the edges. Recd—November 18, 1999. Est. Value—$75. Archives Foreign
First Lady | 10′′ white, blue, and gold-tone porcelain urn with silver overlay, hearts, and jewelled insets. Recd—November 18, 1999. Est. Value—$850. Archives Foreign | The Honorable Bekir Kumbul, Mayor of Antalya, Turkey | Non-acceptance would cause embarrassment to donor and U.S. Government.
First Lady | Six Coroc Studio purses. (1) 7″ x 13″ purple alligator pattern velvet handbag with two purple leather handles, $125. (2) 10″ x 12″ black leather shoulder bag with three divided compartments and two shoulder straps, $300. (3) 8″ x 14″ metallic grey leather purse with two shoulder straps and snap closure, $225. (4) 11″ x 12″ metallic blue handbag with two clear plastic handles, $250. (5) 12″ x 14″ soft brown alligator pattern leather drawstring shoulder bag, with one strap and silver accents, $200. (6) 6″ x 10″ red alligator pattern velvet handbag, with a front spin clasp and matching adjustable strap, $150. Recd—November 24, 1999. Est. Value—$1250. Archives Foreign | His Excellency Abdelsam Jaidi, Consul General of the Kingdom of Morocco | Non-acceptance would cause embarrassment to donor and U.S. Government.
First Lady and Chelsea | For the First Lady: (1) Paperback. “Silent Images: Women in Pharaonic Egypt,” by Zahi Hawass, $10. (2) 49″ x 39″ multicolored wool rug that depicts an Egyptian market with four men trading pottery, $350. For Chelsea Clinton: 2″ x .5″ silver brooch that depicts a pueblo style house and wheel, set with turquoise and amethyst, $150. Recd—March 23, 1999. Est. Value—$510. Archives Foreign | Mrs. Suzanne Mubarak, Ittihadiya Palace, Egypt | Non-acceptance would cause embarrassment to donor and U.S. Government.
First Lady and Chelsea | For the First Lady: Set of blue glass containers with silver filigree accents. (1) 5″ x 8″ round chalice with silver filigree base, $100. (2) 8″ round container with silver filigree top, $100. (3) 13″ x 7″ vase with silver filigree top, $150. (4) 13″ x 4″ oil lamp with silver filigree, $125. (5) 13″ x 3″ decorative oil lamp with silver filigree handle, $125. (6) 3″ x 2″ amphora-shaped black, blue, and yellow glass vessel, $25. (7) 5″ x 4″ silver plaque that reads “Presented to Mrs. Hillary Clinton By The Town Hall of Ariana Tunisia,” $75. (8) Black carved rose on a silver stem with silver leaves, $150. (9) 22″ x 60″ orange scarf with foil stitching, $50. For Chelsea Clinton: Set of blue glass items with silver filigree accents. (1) 7″ x 2″ pair of slippers with silver fish motif on the toe, heal, and strap, $200. (2) Four blue and black painted pottery beads, each smaller than an inch, $40. (3) 4″ x 5″ silver plaque that reads “Presented to Ms. Chelsea Clinton By The Town Hall of Ariana Tunisia,” $75. (4) 5″ x 3″ cylinder container with silver top, $100. Recd—March 25, 1999. Est. Value—$1315. Archives Foreign | Her Excellency Faiza Kefi, Minister of Environment and Land Development of the Republic of Tunisia | Non-acceptance would cause embarrassment to donor and U.S. Government.
First Lady and Chelsea | For the First Lady: Two black ceramic bottles with swirl wirework motif silver finials, and silver pedestal base. One is wide and 9″ tall, the other is thin and 17″ tall, $800. For Chelsea Clinton: 13″ x 9″ silver filigree two-sided oval dressing mirror on two column supports with covered jar on base, mounted on four feet, $650. Recd—March 28, 1999. Est. Value—$1450. Archives Foreign | His Excellency Zine El-Abidine Ben Ali, The President of the Republic of Tunisia and Mrs. Ben Ali | Non-acceptance would cause embarrassment to donor and U.S. Government.
First Lady and Chelsea | For the First Lady: (1) 12″ x 6″ x 5″ wood lockable jewelry box with raised hinged lid, $200. (2) 26″ irregular amber bead necklace. Salmon colored stone beads on metal loops separate some beads, $100. For Chelsea Clinton: (1) 10″ x 6″ x 4″ wooden jewelry box, $100. (2) 28″ link necklace of round medallions connected by silver rings with red and blue bead accents, $100. Recd—March 31, 1999. Est. Value—$500. Archives Foreign | The Honorable Moulay Mustapha Ait Mauma, Governor of Errachidia, Morocco | Non-acceptance would cause embarrassment to donor and U.S. Government.
First Lady and Chelsea | (1) Gold-tone leather purse with two strap handles, $200. (2) Dark green silk caftan with green embroidery on the sleeves and collar, $300. (3) Black velvet caftan with gold-tone braiding at collar and shoulders, $300. (4) Two velvet capes, one blue/grey and one light blue, each with a hood lined with a gold-tone braid trim and tassels, $600. (5) Blue, green, yellow, and gold-tone silk caftan with gold-tone, blue, and green brocade down the center and matching sheer silk liner, $400. (6) Red and gold-tone polka-dot silk caftan with gold-tone and red brocade braid down the center and matching sheer silk liner, $350. (7) Two gold-tone brocade belts, $150. Recd—April 1, 1999. Est. Value—$2300. Archives Foreign | His Majesty Hassan II, King of Morocco | Non-acceptance would cause embarrassment to donor and U.S. Government.
| (1) Three layered green organza and silk caftans with gold-tone embroidery, $350. (2) Silver-tone leather purse, $150. (3) 18 kt. gold overlay, silver, and green enamel horn-shaped evening purse with gold chain. Lid is set with 64 diamonds, and below the lid are seven garnets. Inside lid is a mirror surrounded by four more garnets, $20000. (4) Two 60″ x 60″ velvet blankets. One is red with gold-tone and red fringe. The other is blue with blue and gold-tone fringe tassels, and braid, $500. (5) Maroon velvet hooded cape with a gold-tone braid trim and tassels, $300. (6) Blue silk polka-dot caftan with blue, black, and gold-tone center brocade braid, $500. (7) Green and white floral silk caftan with green white, and gold-tone center brocade, $500. (8) Grey, silver-tone, and black diamond patterned silk caftan with gold-tone and silver-tone center brocade, $350. (9) Green sheer silk with a gold-tone, purple, white, and yellow floral design, with white, green and gold-tone braid accents, $350. (10) Sky blue silk satin caftan with white floral motif with blue, white and gold-tone center brocade, $350. Items 6-10 each have matching silk liners. (11) Blue and silver-tone silk caftan with silver-tone sequins and a blue, grey and gold-tone center brocade, $300. (12) Blue, white, and black silk caftan with silver-tone bars and blue, grey, and gold-tone brocade accents, $350. (13) Two brown leather suitcases, $700. (14) Four gold-tone brocade belts, $300. Recd—April 1, 1999. Est. Value—$25000. Archives Foreign
First Lady and Chelsea | (1) Large fabric-covered book. “The Splendour of Islamic Calligraphy,” by Abdelkebir Khatibi, $60. (2) Large hardcover book. “The Hassan II Mosque,” Mohammed-Allal Sinaceur, $60. (3) 11″ x 4″ x 7″ burlwood jewelry box with locking lid and two sectional interior, $250. (4) 6″ tall x 4.5″ diameter amber vessel with pointed lid. Both parts are decorated with silver accent overlays, $300. Recd—April 1, 1999. Est. Value—$670. Archives Foreign | His Excellency Abderrahmane Youssoufi, Prime Minister of Morocco | Non-acceptance would cause embarrassment to donor and U.S. Government.
First Lady and Chelsea | For the First Lady: Gold brooch in the shape of four tulips, $250. For Chelsea Clinton: 4″ swan-like turquoise stone paperweight that is also a letter opener, $50. Recd—July 16, 1999. Est. Value—$300. Archives Foreign | His Excellency Ehud Barak, The Prime Minister of Israel and Mrs. Barak | Non-acceptance would cause embarrassment to donor and U.S. Government.
First Lady and Chelsea | For Chelsea Clinton: 15.5″ blue topaz beaded necklace with a 22kt. gold double floral clasp, $450. For the First Lady: (1) 16″ cut carnelian beaded triple strand necklace with a 22kt. gold clasp, $450. (2) .5″ 22 kt. gold and cabochon carnelian circular earrings, $300. Recd—November 9, 1999. Est. Value—$1200. Archives Foreign | Mrs. Nava Barak, Israel | Non-acceptance would cause embarrassment to donor and U.S. Government.
First Lady and Chelsea | For Chelsea Clinton: Steel Sector watch with a black face and a gold-tone crown on the face, $150. For the First Lady: 7″ silver and gold camel with a silver and gold military figure riding the camel that sits on a 1.5″ marble stand, $4500. Recd—November 17, 1999. Est. Value—$4650. Archives Foreign | Their Majesties King Abdullah II and Queen Rania al Abdullah, Jordan | Non-acceptance would cause embarrassment to donor and U.S. Government.
First Lady and Chelsea | For the First Lady: (1) 2″ 18 kt. gold brooch in the shape of a half man, half bird, $400. (2) 34″ x 34″ blue, white, yellow, and red Vakko silk scarf with a floral and striped pattern, $65. For Chelsea Clinton: (1) 16″ silver link necklace with a flower pendant, $175. (2) 25″ x 25″ blue, green, yellow, and white Vakko silk scarf with an astrological sign pattern, $50. Recd—November 18, 1999. Est. Value—$690. Archives Foreign | The Honorable Istemihan Talay, The Minister of Culture, Republic of Turkey and Mrs. Talay | Non-acceptance would cause embarrassment to donor and U.S. Government.
President and Chelsea | For the President (1) Black cotton/poly rugby jersey that reads “New Zealand All Blacks,” $50. (2) 18″ tapered black and chartreuse art-glass vase, $140. For Chelsea Clinton: (1) Four compact discs. “Te Papa Suite” performed and recorded by Gareth Farr and the New Zealand Symphony Orchestra, “Stellar,” by Tom Bailey and Stellar, “The Best of Crowded House,” by Crowded House, and “The Mutton Birds,” by the Mutton Birds, $60. (2) Small black cotton/poly rugby jersey that reads “New Zealand all Blacks,” $50. Recd—September 13, 1999. Est. Value—$300. Archives Foreign | The Right Honorable Jenny Shipley, P.C., The Prime Minister of New Zealand and Mr. Shipley | Non-acceptance would cause embarrassment to donor and U.S. Government.
Chelsea | Black brushed fabric cape with hood that has silver embroidery. Recd—March 27, 1999. Est. Value—$300. Archives Foreign | Mrs. Leila Ben Ali, Office of the President of the Republic of Tunisia | Non-acceptance would cause embarrassment to donor and U.S. Government.
Chelsea | 7″ long x .5″ wide yellow and white gold and diamond bracelet. Recd—November 17, 1999. Est. Value—$2500. Archives Foreign | Their Majesties King Abdullah II and Queen Rania al Abdullah, Jordan | Non-acceptance would cause embarrassment to donor and U.S. Government.
Chelsea | (1) Gold-tone scarf ring in the shape of a flower with a pearl in the center, $10. (2) 60″ x 23″ orange, yellow, red, blue, and tan Vakko silk scarf with Arabic motif, $90. Recd—November 18, 1999. Est. Value—$100. Archives Foreign | The Honorable Bekir Kumbul, Mayor of Antalya, Turkey | Non-acceptance would cause embarrassment to donor and U.S. Government.
Carlos E. Pascual, Director, NSC Russia/Ukraine/Eurasian Affairs | Three gold coins: 200 som, 20 som, and 1 som in a green velvet box. Recd—March 17, 1999. Est. Value—$1000. General Services Administration | His Excellency Abdulazziz Kamilov, Minister of Foreign Affairs of the Republic of Uzbekistan | Non-acceptance would cause embarrassment to donor and U.S. Government.
Samuel Berger, Assistant to the President for National Security Affairs | 6″ diameter silver dish with gold plated medallion in the center. Recd—May 27, 1999. Est. Value—$350. General Services Administration | His Excellency George Papandreou, Minister of Foreign Affairs of the Hellenic Republic | Non-acceptance would cause embarrassment to donor and U.S. Government.
Samuel Berger, Assistant to the President for National Security Affairs | Silver crossed filigree desk set that includes a sword letter opener, a dagger and a small brass camel, on an oval wood base. Recd—June 15, 1999. Est. Value—$500. General Services Administration | His Excellency Yusuf bin Alawi Bin Abdullah, The Minister Responsible for Foreign Affairs of the Sultanate of Oman | Non-acceptance would cause embarrassment to donor and U.S. Government.
Samuel Berger, Assistant to the President for National Security Affairs | 8″ x 8″ silver compote with vermeil lining and six dolphin fish on the scalloped rim and three on the pedestal base. Recd—September 23, 1999. Est. Value—$950. General Services Administration | The Honorable A. Tsohatzopoulos, Minister of National Defense, Hellenic Republic | Non-acceptance would cause embarrassment to donor and U.S. Government.
Samuel Berger, Assistant to the President for National Security Affairs | (1) Three 29″ diameter leather embroidered pillow covers, $300 each. (2) 100″ diameter leather embroidered rug to match the pillow covers, $2100. Recd—October 26, 1999. Est. Value—$3000. General Services Administration | The Honorable Aliyu Mohammadd, Nigerian National Security Advisor | Non-acceptance would cause embarrassment to donor and U.S. Government.
Sean P. Maloney, Assistant to the President and Staff Secretary | 6″ round silver dish with gold plated sterling medallion. Recd—December 1, 1999. Est. Value—$350. General Services Administration | His Excellency Constantinos Stephanopoulos, President of the Hellenic Republic | Non-acceptance would cause embarrassment to donor and U.S. Government.
James. B. Steinberg, Deputy Assistant to the President for National Security Affairs | 6″ round silver dish with gold plated sterling medallion. Recd—December 3, 1999. Est. Value—$350. General Services Administration | His Excellency Constantinos Stephanopoulos, President of the Hellenic Republic | Non-acceptance would cause embarrassment to donor and U.S. Government.
Jennifer Palmieri, Special Assistant to the Chief of Staff | 6″ round silver dish with gold plated sterling medallion. Recd—December 10, 1999. Est. Value—$350. General Services Administration | His Excellency Constantinos Stephanopoulos, President of the Hellenic Republic | Non-acceptance would cause embarrassment to donor and U.S. Government.
Agency for International Development
Anderson, J. Brady | Three gold coins in a brown leather case. Recd—November 23, 1999. Est. Value—$540.00. In the Administration awaiting disposition | President Milo Djukanovic of the Republic of Montenegro | Gift was from a high level foreign dignitary and was accepted to further government.
Air Force
Gamble, Patrick (General)—Commander, Pacific Air Forces, Hickam Air Force Base, Hawaii | Two Koji pottery dragons. Recd—November 18, 1999. Est. Value—$590.00 (aggregately). Retained for official display at Headquarters Pacific Air Forces, Hickam Air Force Base | General Chen, Chaeo-Min, Taiwan Air Force | Non-acceptance would have caused embarrassment to donor and United States Government.
Ryan, Jane Mrs.—wife of Chief of Staff, USAF, Washington, DC | 18-karat gold Kartouche. Recd—June 21, 1999. Est. Value—$200.00. Retained for official display at Air House (official residence of Chief of Staff, USAF) | Air Marshal Ahmed Shafik, Egyptian Air Force | Non-acceptance would have caused embarrassment to donor and United States Government.
Ryan, Michael (General)—Chief of Staff, USAF, Washington, DC | Sterling Silver Chilean matte cup. Recd—November 2, 1998. Est. Value—$325.00. Retained for official display at Air House (official residence of Chief of Staff, USAF) | General Fernando Rojas, Chief of Staff Chilean Air Force | Non-acceptance would have caused embarrassment to the donor and U.S. Government.
Ryan, Michael (General)—Chief of Staff, USAF, Washington, DC | Marble aircraft statue. Recd—November 2, 1998. Est. Value—$100.00. Retained for official display at Air House (official residence of Chief of Staff, USAF) | General Fernando Rojas, Chief of Staff, Chilean Air Force | Non-acceptance would have caused embarrassment to donor and United States Government.
Taylor, Francis X. (Brigadier General)—Commander, Headquarters Air Force, Office of Special | Watercolor print. Recd—June 22, 1998. Est. Value—$1,500.00. On official display at Headquarters Air Force Office of Special Investigations, Bolling Air Force Base, DC | Superintendent General Yum Joe Lee, Attaché, Embassy of the Republic of Korea, Washington, DC | Non-acceptance would have caused embarrassment to the donor and the United States Government.
Taylor, Francis X. (Brigadier General)—Commander, Headquarters Air Force, Office of Special | Watercolor print. Recd—June 22, 1998. Est. Value—$1,500.00. On official display at Headquarters Air Force Office of Special Investigations, Bolling Air Force Base, DC | Superintendent General Yum Joe, Attaché, Embassy of the Republic of Korea, Washington, DC | Non-acceptance would have caused embarrassment to the donor and the United States Government.
Weston, Craig P. (Brigadier General)—Air Force Program Executive Officer, Command and Control, | Tissot gold-tone wristwatch model—#T49.5.481.32. Recd—February 14, 1999. Est. Value—$275.00. Turned in to GSA, October 6, 1999 | Col. Sultan Bin Farhan Al-Milhin, Royal Saudi Air Force Peace Shield Project Officer | Non-acceptance would have caused embarrassment to the donor and the United States Government.
Board of Governors of the Federal Reserve Sys
Greenspan, Alan—Chairman | Pen and ink print, “Fragment III” by Noriko Yanagisawa. Recd—Sept. 7, 1999. Est. Value—$500.00. Retained for display | Hakuo Yanagisawa, Chairman of the Japanese Financial Reconstruction Committee | To have refused would have caused offense or embarrassment.
Central Intelligence Agency
An Agency Employee | 750 (18K) yellow gold circular braided necklace and matching bracelet, modern. (2 oz) Recd—June 10, 1999. Est. Value—$500.00. To be retained for official display | 5 U.S.C. 7343(f)(4) | Non-acceptance would have caused embarrassment to donor and U.S. Government.
Gordon, John A.—Deputy Director of Central Intelligence | Embossed silver mounted gilt tooled black leatherette stationary stand, modern, rectangular form with hinged writing leaf opening to view a removable folio cover, beneath two hinged boxes centering a letter rack, each mounted with embossed floral silver panels. 22 x 18\1/2\ inches. Recd—November 18, 1999. Est. Value—$300.00. To be retained for official display | 5 U.S.C. 7342(f)(4) | Non-acceptance would have caused embarrassment to donor and U.S. Governments.
Gordon, John A.—Deputy Director of Central Intelligence | Geometric piece and applied blue and beige leather round rug and three round pillows, modern with muslin backing, worked in a radiating geometric pattern with stylized flowers in white, red, green and blue on alternating beige and blue grounds. (approx. 10 feet) Recd—November 11, 1999. Est. Value—$500.00 To be retained for official display | 5 U.S.C. 7342(f)(4) | Non-acceptance would have caused embarrassment to donor and U.S. Government.
Gordon, John A.—Deputy Director of Central Intelligence | Geometric pieced and applied beige and lavender leather round rug and three round pillows, modern, en suite with number 99-072. (approx. 10 feet) Recd—November 10, 1999. Est. Value—$500.00. To be retained for official display | 5 U.S.C. 7342(f)(4) | Non-acceptance would have caused embarrassment to donor and U.S. Government.
Tenet, George J.—Director of Central Intelligence | Mother-of-pearl Bible box, modern, with a hinged top set with nativity scene, enclosing Holy Bible, Old and New Testament, published Collins' Clear Type Press, London and New York, with mother-of-pearl binding. 3\1/4\ x 9\3/4\ inches. Recd—October 29, 1999. Est. Value—$300.00. To be retained for official display | 5 U.S.C. 7342(f)(4) | Non-acceptance would have caused embarrassment to donor and U.S. Government.
Tenet, George J.—Director of Central Intelligence | Cut glass tall vase, modern, mounted on walnut plinth, inscribed on lip 34cm Vaza Anfoka 1987. 13\3/4\ inches. Recd—October 1, 1999. Est. Value—$300.00. To be retained for official display | 5 U.S.C. 7342(f)(4) | Non-acceptance would have caused embarrassment to donor and U.S. Government.
Tenet, George J.—Director of Central Intelligence | Brass mounted chagrin commemorative dagger and parade hat, modern, from the Third Lancers, 1815-1831. Recd—September 27, 1999. Est. Value—$300.00. To be retained for official display | 5 U.S.C. 7342(f)(4) | Non-acceptance would have caused embarrassment to donor and U.S. Government.
Tenet, George J.—Director of Central Intelligence | 24 Karat textured gold ‘loop and star’ necklace, modern, marked 9999. Recd—December 2, 1999. Est. Value—$300.00. To be retained for official display | 5 U.S.C. 7342(f)(4) | Non-acceptance would have caused embarrassment to donor and U.S. Government.
Tenet, George J.—Director of Central Intelligence | Silver gilt group of a horned animal beneath a palm tree, modern. 7 inches. Recd—November 1, 1999. Est. Value—$300.00. To be retained for official display | 5 U.S.C. 7342(f)(4) | Non-acceptance would have caused embarrassment to donor and U.S. Government.
Tenet, George J.—Director of Central Intelligence | Mother-of-pearl Diorama of Nativity and The Last Supper, modern. Each with applied plaque (17 x 23 x 2½ inches). Recd—October 26, 1999. Est. Value—$500.00. To be retained for official display | 5 U.S.C. 7342(f)(4) | Non-acceptance would have caused embarrassment to donor and U.S. Government.
Tenet, George J.—Director of Central Intelligence | Commemorative six-piece coin set, 1993, consisting of: 3 gold coins and 3 silver coins, each with double-headed eagle and dates 1943-1993. Recd—October 1, 1999. Est. Value—$300.00. To be retained for official display | 5 U.S.C. 7342(f)(4) | Non-acceptance would have caused embarrassment to donor and U.S. Government.
Tenet, George J.—Director of Central Intelligence | Marquetry ebonized wood hexagonal folding trestle-base table, modern, with scenes of early civilization. Recd—October 28, 1999. Est. Value—$300.00. To be retained for official display | 5 U.S.C. 7342(f)(4) | Non-acceptance would have caused embarrassment to donor and U.S. Government.
Tenet, George J.—Director of Central Intelligence | Engraved silver coffee pot, modern, of typical form 14½ inches. Recd—November 2, 1999. Est. Value—$500.00. To be retained for official display | 5 U.S.C. 7342(f)(4) | Non-acceptance would have caused embarrassment to donor and U.S. Government.
Tenet, George J.—Director of Central Intelligence | Herend six-piece desk set, Rothschild Bird pattern #RO, modern, consisting of: oblong tray, cup and undertray, footed small cup, seal and a covered box. Recd—September 28, 1999. Est. Value—$500.00. To be retained for official display | 5 U.S.C. 7342(f)(4) | Non-acceptance would have caused embarrassment to donor and U.S. Government.
Tenet, George J.—Director of Central Intelligence | Daum amber pat-de-verre glass figure of a standing woman, modern, inscribed Daum/France. 10 inches. Recd—May 19, 1999. Est. Value—$500.00. To be retained for official display | 5 U.S.C. 7342(f)(4) | Non-acceptance would have caused embarrassment to donor and U.S. Government.
Tenet, George J.—Director of Central Intelligence | Contemporary silver and specimen amethyst and rock crystal bust of a Horse, modeled by Laido, modern, mounted on mottled black marble oval base. 17 inches. Recd—October 29, 1999. Est. Value—$750.00. To be retained for official display | 5 U.S.C. 7342(f)(4) | Non-acceptance would have caused embarrassment to donor and U.S. Government.
Commerce
Daley, William M.—Secretary of Commerce | Mother of Pearl replica of “The Manger Scene/Bethlehem 2000”. Recd—October 11, 1999. Est. Value—$800.00. Commerce for disposition | Mr. Yasser Arafat, Chairman, Palestinian Liberation Organization | Non-acceptance would have caused embarrassment to donor and United States Government.
Daley, William M.—Secretary of Commerce | 14″ x 16″ Framed Multicolored Mosaic Painting. Recd—October 15, 1999. Est. Value—$275.00. Department of Commerce for disposition | H.E. Osama Faqih, Minister of Commerce of Saudi Arabia/Riyadh | Non-acceptance would have caused embarrassment to donor and United States Government.
Daley, William M.—Secretary of Commerce | 8″ x 12″ Metal Sculptured Horse mounted on stone with quartz formations. Recd—October 17, 1999. Est. Value—$800.00. Department of Commerce for disposition | H.H. Sultan Bin Zayed Al Nahyan, Deputy Prime Minister of the United Arab Emirates, Abu Dhabi | Non-acceptance would have caused embarrassment to donor and United States Government.
Defense
Cohen, Mrs.—Spouse of Secretary of Defense (William Cohen) | Pearl Necklace Double Strand. Recd—March 4, 1998. Est. Value—$2,600.00. Reported to GSA on October 8, 1999 | Essa Bin Salman Al Khalifa, The Amir of the State of Bahrain | Non-acceptance would have caused embarrassment to donor and U.S. Government.
Cohen, Mrs.—Spouse of Secretary of Defense (William Cohen) | Lady's Rolex. Recd—March 4, 1998. Est. Value—$4,700.00. Reported to GSA on October 14, 1999 | Essa Bin Salman Al Khalifa, The Amir of the State of Bahrain | Non-acceptance would have caused embarrassment to donor and U.S. Government.
Cohen, Mrs.—Spouse of Secretary of Defense (William Cohen) | Pearl Bracelet Double Strand in a Gold Band. Recd—March 4, 1998. Est. Value—$720.00. Reported to GSA on October 14, 1999 | Essa Bin Salman Al Khalifa, The Amir of the State of Bahrain | Non-acceptance would have caused embarrassment to donor and U.S. Government.
Cohen, Mrs.—Spouse of Secretary of Defense (William Cohen) | Hand made Gold Bracelet with enameled Beetle. Recd—March 4, 1998. Est. Value—$970.00. Reported to GSA—October 8, 1999 | Field Marshal Hussein Tantawy, Minister of Defense (Egypt) | Non-acceptance would have caused embarrassment to donor and U.S. Government.
Cohen, Mrs.—Spouse of Secretary of Defense (William Cohen) | Gold Egyptian Bracelet. Recd—December 24, 1998. Est. Value—$600.00. Retained for Official Display | Essa Bin Salman Al Khalifa, The Amir of the State of Bahrain | Non-acceptance would have caused embarrassment to donor and U.S. Government.
Cohen, William S.—Secretary of Defense | Head cast metal, on white marble block. Recd—January 8, 1999. Est. Value—$1,200.00. Returned for Official Display | Unknown | Non-acceptance would have caused embarrassment to donor and U.S. Government.
Cohen, William S.—Secretary of Defense | Man's Wristwatch, Rolex. Recd—January 8, 1999. Est. Value—$2,120.00. Retained for Official Display | Unknown | Non-acceptance would have caused embarrassment to donor and U.S. Government.
Cohen, William S.—Secretary of Defense | Hand made Silk Carpet (Floral Design). Recd—March 8, 1998. Est. Value—$650.00. Reported to GSA on October 8, 1999 | Field Marshal Hussein Tantawy, Minister of Defense (Egypt) | Non-acceptance would have caused embarrassment to donor and U.S. Government.
Cohen, William S.—Secretary of Defense | Lady's Wristwatch Rolex. Recd—January 8, 1999. Est. Value—$1,680.00. Retained for Official Display | Unknown | Non-acceptance would have caused embarrassment to donor and U.S. Government.
Cohen, William S.—Secretary of Defense | Handmade Silk Carpet (Floral Design). Recd—March 8, 1998. Est. Value—$700.00. Reported to GSA on October 8, 1999 | Field Marshal Hussein Tantawy, Minister of Defense (Egypt) | Non-acceptance would have caused embarrassment to donor and U.S. Government.
Cohen, William S.—Secretary of Defense | Wristwatch Rolex. Recd—Unknown. Est. Value—$5,220.00. Retained for Official Display | Unknown | Non-acceptance would have caused embarrassment to donor and U.S. Government.
Cohen, William S.—Secretary of Defense | Jewelry/Writing Set. Recd—January 8, 1999. Est. Value—$4,895.00. Retained for Official Display | Unknown | Non-acceptance would have caused embarrassment to donor and U.S. Government.
Kramer, Franklin D.—ASD for ISA | Gold Cherub Key Chain. Recd—May 17, 1999. Est. Value—$290.00 Reported to GSA on October 8, 1999 | Field Marshal Hussein Tantawy, Minister of Defense (Egypt) | Non-acceptance would have caused embarrassment to donor and U.S. Government.
Kramer, Franklin D.—ASD for ISA | Three Blue Leather Mats and 23x27 small throw rug. Recd—May 18, 1999. Est. Value—$280.00. Retained for Official Display | Gen. Abdulsalami A. Abubakar, Head of State of the Republic of Nigeria | Non-acceptance would have caused embarrassment to donor and U.S. Government.
Kramer, Franklin D.—ASD for ISA | Beige Rug (53x37). Recd—March 13, 1999. Est. Value—$600.00. Reported to GSA on October 8, 1999 | Field Marshal Hussein Tantawy, Minister of Defense (Egypt) | Non-acceptance would have caused embarrassment to donor and U.S. Government.
Kramer, Franklin D.—ASD for ISA | Silver Lamp. Recd—March 13, 1999. Est. Value—$480.00. Reported to GSA on October 8, 1999 | Lt. Gen. Magdy Hatata, Chief of Staff, Egyptian Armed Forces | Non-acceptance would have caused embarrassment to donor and U.S. Government.
Kramer, Mrs.—Spouse of ASD for ISA | 20″ Gold Kartouche Necklace. Recd—May 17, 1999. Est. Value—$365.00. Reported to GSA on October 8, 1999 | Field Marshal Hussein Tantawy, Minister of Defense (Egypt) | Non-acceptance would have caused embarrassment to donor and U.S. Government.
Kramer, Mrs.—Spouse of ASD for ISA | Egyptian Bracelet. Recd—March 13, 1999. Est. Value—$830.00. Reported to GSA on October 14, 1999 | Wife of Field Marshal Hussein Tantawy, Minister of Defense (Egypt) | Non-acceptance would have caused embarrassment to donor and U.S. Government.
Ralston, Joseph W.—General, USAF Vice Chairman of the Joint Chiefs of Staff | Chalice with decorative stones. Recd—December 10, 1998. Est. Value—$400.00. Reported to GSA on October 12, 1999 | General Lieutenant David Tevzadze, Minister of Defense, Republic of Georgia | Non-acceptance would have caused embarrassment to donor and U.S. Government.
Romanowski, Alina, ASD of Defense Near Eastern and South Asian Affairs, ISA | Two Gold Bracelets. Recd—December 3, 1998. Est. Value—$1,960.00. Reported to GSA on October 12, 1999 | H.E. Shaykh Salim al-Sabah Al-Salim Al Sahah, Minister of Defense | Non-acceptance would have caused embarrassment to donor and U.S. Government.
Sattler, John F.—Brigadier General | Dunhill Watch. Recd—May 11, 1999. Est. Value—$345.00. Reported to GSA on October 14, 1999 | Lt. General Ali, Chief of Defense, Kuwait | Non-acceptance would have caused embarrassment to donor and U.S. Government.
Shelton, Henry H.—General, Joint of Chiefs of Staff | Suit of Armor. Recd—March 11, 1999. Est. Value—$280.00. Retained for Official Display | LTG Henryk Szumski | Non-acceptance would have caused embarrassment to donor and U.S. Government.
Shelton, Mrs.—Spouse of General Henry H. Shelton, Chairman of the Joints Chiefs of Staff | Concord ladies watch. Recd—March 11, 1999. Est. Value—$950.00. Reported to GSA on October 6, 1999 | General and Mrs. Al-Attayah, Chief of Staff, Qatar Armed Forces | Non-acceptance would have caused embarrassment to donor and U.S. Government.
Smith, Frederick C.—PASD for ISA | Globe. Recd—September 2, 1998. Est. Value—$3500.00. Reported to GSA on October 12, 1999 | Sheikh Salman, Under Secretary of Defense Policy, Bahrain MOD | Non-acceptance would have caused embarrassment to donor and U.S. Government.
Tyrer, Bob—Chief of Staff | Eterna Men's watch in a wood presentation box. Recd—March 4, 1998. Est. Value—$2870.00. Reported to GSA on October 14, 1999 | Essa Bin Salman al Khalifa, Amir of Bahrain | Non-acceptance would have caused embarrassment to donor and U.S. Government.
Unruh, Brian—Near Eastern and South Asian Affairs | Man's watch—Christian Dior Ser# D71-100 AJ5787. Recd—December 23, 1998. Est. Value—$380.00. Reported to GSA on October 14, 1999 | Col. Mohammed al-Sobaie, Military Liaison Officer, Embassy of Kuwait | Non-acceptance would have caused embarrassment to donor and U.S. Government.
Justice
Carter, J.C.—Assistant Director In Charge, Washington Field Office | Gold Coin. Recd—April 1999. Est. Value—$272.00. On display in Washington Field Office | Saudi Arabia Mabahith | Courtesy gift received during meeting.
Marine Corps
Schneider, H. Jr. (Major)—U.S. Central Command | Candino Swiss Watch. Recd—September 29, 1999. Est. Value—$462.00. Forwarded to GSA for disposition | Col Ahem Al-Al-Yatama—Kuwait | Non-acceptance would have caused embarrassment to donor & U.S. Government.
Zinni, A.C. (General)—CINC, U.S. Central Command | Egyptian Prayer Rug. Recd—November 1999. Est. Value—$2500.00. Individual purchased | Lt. Gen. Hattata—Chief of Staff (Egypt) | Non-acceptance would have caused embarrassment to donor & U.S. Government.
Zinni, A.C. (General)—CINC, U.S. Central Command | Sig Saul P228 9mm Combat Pistol. Recd—December 15, 1998. Est. Value—$1098.00. Individual purchased | Sheikh Isa bin Sulman Al-Khalifa—Amir of Bahrain | Non-acceptance would have caused embarrassment to donor & U.S. Government.
Navy
Cheney, Stephen A. (Bgen)—Marine Corps IG | Man's Eterna 18K Gold Watch. Recd—February 17, 1999. Est. Value—$7,500.00. Forwarded to GSA on July 16, 1999 for disposition | Sheikh Isa bin Sulman Al-Khalifa—Amir of Bahrain | Non-acceptance would have caused embarrassment to donor & U.S. Government.
Danzig, Richard—Secretary of the Navy | Woman's Rolex 18K Watch. Recd—February 17, 1999. Est. Value—$9000.00. Forwarded to GSA on July 16, 1999 for disposition | Sheikh Isa bin Sulman Al-Khalifa—Amir of Bahrain | Non-acceptance would have caused embarrassment to donor & U.S. Government.
Danzig, Richard—Secretary of the Navy | Tiffany & Co. Brass Alarm Clock and Tiffany & Co. Sterling Silver Gold Pen (given as one gift). Recd—February 15, 1999. Est. Value—$700.00 & $250.00. Forwarded to GSA on July 16, 1999 for disposition | Sheikh Saud Nasser—Kuwait Minister of Oil | Non-acceptance would have caused embarrassment to donor & U.S. Government.
Danzig, Richard—Secretary of the Navy | Man's Rolex 18K Watch. Recd—February 17, 1999. Est. Value—$14,000.00. Forwarded to GSA on July 16, 1999 for disposition | Sheikh Isa bin Sulman Al-Khalifa—Amir of Bahrain | Non-acceptance would have caused embarrassment to donor & U.S. Government.
Danzig, Richard—Secretary of the Navy | Two-strand Pearl Necklace. Recd—February 17, 1999. Est. Value—$9000.00. Forwarded to GSA on July 16, 1999 for disposition | Sheikh Isa bin Sulman Al-Khalifa—Amir of Bahrain | Non-acceptance would have caused embarrassment to donor and U.S. Government.
Stavridis, James (Captain)—Executive Assistant & Naval I/Aide to the Secretary of the Navy | Man's Eterna 18K Gold Watch. Recd—February 17, 1999. Est. Value—$7,500.00. Forwarded to GSA on July 16, 1999 for disposition | Sheikh Isa bin Sulman Al-Khalifa—Amir of Bahrain | Non-acceptance would have caused embarrassment to donor and U.S. Government.
Work, Robert (Colonel)—Military Assistant & Marine Aide to the Secretary of the Navy | Man's Eterna 18K Gold Watch. Recd—February 17, 1999. Est. Value—$7,500.00. Forwarded to GSA on July 16, 1999 for disposition | Sheikh Isa bin Sulman Al-Khalifa—Amir of Bahrain | Non-acceptance would have caused embarrassment to donor and U.S. Government.
Office of the Vice President
Mrs. Gore | Black silk evening bag with crystal beading decoration. Recd—June 6, 1999. Est. Value—$350.00. Archives | Keizo Obuchi, Prime Minister of Japan and Mrs. Obuchi | Non-acceptance would have caused embarrassment to donor and U.S. Government.
Mrs. Gore | African masks in black frame. Recd—June 6, 1999. Est. Value—$400.00. Archives | Mrs. Marguerite Midjo Keredou, c/o Embassy of the Republic of Benin | Non-acceptance would have caused embarrassment to donor and U.S. Government.
Mrs. Gore | Broach in 20-22 kt. Gold, design of the Cycladic period. Recd—March 17, 1999. Est. Value—$500.00. Archives | Mr. and Mrs. Vardis and Mariana Vardinoyannis, Athens | Non-acceptance would have caused embarrassment to donor and U.S. Government.
OVP Staff | Blue leather box with gold trim—inside is a silver box with a seal. Recd—May 3, 1999. Est. Value—$2500.00. Archives | Nursultan Nazabayez, President of the Republic of Kazakhstan | Non-acceptance would have caused embarrassment to donor and U.S. Government.
Vice President | 1. Statuette of Ukrainian figure. 2. Miniature gold mace. 3. 1999 commemorative silver coin. 4. Glass Vase. Recd—December 8, 1999. Est. Value—$ over $250.00, awaiting appraisal. Office of the Vice President | Leonid Kuchma, President of Ukraine | Non-acceptance would have caused embarrassment to donor and U.S. Government.
Vice President | Sculpture of calf by inuk artist. Recd—May 3, 1999. Est. Value—$1000.00. Archives | Prime Minister Jean Chretien, Prime Minister of Canada | Non-acceptance would have caused embarrassment to donor and U.S. Government.
Vice President | Baseball autographed by Sammy Sosa. Recd—December 12, 1999. Est. Value—$ over $250.00 awaiting appraisal. Office of the Vice President | Roberto B. Saladin Selin, Ambassador of the Dominican Republic, Washington, DC | Non-acceptance would have caused embarrassment to donor and U.S. Government.
Vice President and Mrs. Gore | Jewelry: gold pin for Mrs. Gore (reproduction of pre-Columbian artifact excavated in Panama), gold cufflinks for VP. Recd—October 19, 1999. Est. Value—$650.00. Archives | Mireya Moscoso, President of Republic of Panama | Non-acceptance would have caused embarrassment to donor and U.S. Government.
Vice President and Mrs. Gore | Small carriage clock; Koran-sha white porcelain vase. Recd—June 6, 1999. Est. Value—$350.00. Archives | Keizo Obuchi, Prime Minister of Japan | Non-acceptance would have caused embarrassment to donor and U.S. Government.
Vice President and Mrs. Gore | Porcelain Jar. Recd—December 12, 1999. Est. Value—$ over $250.00, awaiting appraisal. Office of the Vice President | Yuriy Viktorovich Ushakov, Ambassador Extraordinary and Plenipotentiary of the Russian Federation, Washington, DC | Non-acceptance would have caused embarrassment to donor and U.S. Government.
Senate
Durbin, Richard J—U.S. Senator | Commemorative historical sword. Recd—April 21, 1999. Est. Value—$260.00. Displayed in Senate Office, SR 364 | Buzek, Jerzy—Prime Minister of Poland | Non-acceptance would have caused embarrassment to donor and U.S. Government.
Shelby, Richard C. and Annette Nevin Shelby—U.S. Senator and Wife | Gems Painting. Recd—September 1, 1999. Est. Value—$150.00. Deposited with Secretary of Senate | Maj. Gen. Ye Myint of Myanmar | Non-acceptance would have caused embarrassment to donor and U.S. Government.
Shelby, Richard C. and Annette Nevin Shelby—U.S. Senator and Wife | Nine-Gems Ring. Recd—August 31, 1999. Est. Value—$300.00. Deposited with Secretary of Senate | Lt. Gen. And Mrs. Khin Myunt of Myanmar | Non-acceptance would have caused embarrassment to donor and the U.S.
Shelby, Richard C. and Annette Nevin Shelby—U.S. Senator and Wife | Silver Tea Set. Recd—August 23, 1999. Est. Value—$3,500.00. Deposited with Secretary of Senate | President B.J. Habibie of Indonesia | Non-acceptance would have caused embarrassment to donor and the U.S. .
Sisco, Gary—Secretary of Senate | Waterman Pen. Recd—May 8, 1999. Est. Value—$300.00. Deposited with Secretary of Senate | Harold Romer, Deputy Secretary General of the European Parliament | Non-acceptance would have caused embarrassment to donor and the U.S.
State
Albright, Madeleine K.—Secretary of State | Silver Brooch with stones. Recd—December 22, 1999. Est. Value—$350.00. Office of Protocol for Disposition | President Weizman—Israel | Non-acceptance would have caused embarrassment to donor & U.S. Government.
Albright, Madeleine K.—Secretary of State | Gold bracelet and necklace. Recd—December 8, 1999. Est. Value—$500.00. Office of Protocol for Disposition | Chairman Yasser Arafat (PLO) | Non-acceptance would have caused embarrassment to donor & U.S. Government.
Albright, Madeleine K.—Secretary of State | Gold Bracelet. Recd—1998. Est. Value—$800.00 Office of Protocol for disposition | Suha Arafat, First Lady (PLO) | Non-acceptance would have caused embarrassment to donor & U.S. Government.
Albright, Madeleine K.—Secretary of State | Gold Chain. Recd—September 20, 1999. Est. Value—$400.00. Office of Protocol for disposition | Sheikh Hasina, Prime Minister (Banglesh) | Non-acceptance would have caused embarrassment to donor & U.S. Government.
Albright, Madeleine—Secretary of State | Gold Necklace with diamonds. Recd—October 22, 1999. Est. Value—$1500.00. Office of Protocol for disposition | Chairman Yasser Arafat (PLO) | Non-acceptance would have caused embarrassment to donor & U.S. Government.
Albright, Madeleine—Secretary of State | 6″ Round Silver Box w/lid. Recd—May 26, 1999. Est. Value—$500.00. Office of Protocol for disposition | Lamberto Dini, Foreign Minister (Italy) | Non-acceptance would have caused embarrassment to donor & U.S. Government.
Ambassador Wife—Lagos | One double strand pearl necklace and matching earrings. Recd—July 1999. Est. Value—$325.00. Delivered to GSA on Sept. 7, 1999 | Lagos Government | Non-acceptance would have caused embarrassment to donor & U.S. Government.
Bartels, Camila—Public Affairs | Eterna watch. Recd—November 1997. Est. Value—$2,550.00 Delivered to GSA on September 7, 1999 | Government of Bahrain | Non-acceptance would have caused embarrassment to donor & U.S. Government.
Brill, Kenneth—Ambassador | Painting (Animal Abstractions). Recd—July 1, 1999. Est. Value—$460.00. Retained at Embassy for Official Display | Foreign Government—Nicosia | Non-acceptance would have caused embarrassment to donor & U.S. Government.
Brill, Kenneth—Ambassador | Painting (Ghost Island). Recd—July 1, 1999. Est. Value—$550.00. Retained at the Embassy for Official Display | Foreign Government—Nicosia | Non-acceptance would have caused embarrassment to donor & U.S. Government.
Bujac, Greg—Diplomatic Security | Eterna Watch. Recd—November 1997. Est. Value—$2,550.00. Delivered to GSA on September 7, 1999 | Government of Bahrain | Non-acceptance would have caused embarrassment to donor & U.S. Government.
Burnei—Admin Consul | Revue, Thommen Watch. Recd—December 23, 1997. Est. Value—$1,500.00. Office of Protocol for Disposition | Burundian Royal Family Member | Non-acceptance would have caused embarrassment to donor & U.S. Government.
Burnei—Ambassador | Baume & Mercier Watch. Recd—December 23, 1997. Est. Value—$3,500.00. Office of Protocol for Disposition | Burundian Royal Family Member | Non-acceptance would have caused embarrassment to donor & U.S. Government.
Burnei—Charge | Tag Heuer Watch. Recd—December 23, 1997. Est. Value—$1500.00. Office of Protocol for Disposition | Burundian Royal Family Member | Non-acceptance would have caused embarrassment to donor & U.S. Government.
Burns, Nick—Ambassador | Black Leather bound Coin Collection (“one Century of Greek Coins; 1880-1995”. Recd—April 19, 1999. Est. Value—$1,677.00. Retained at the Embassy for Official Display | Wife of Ministry of Defense official | Non-acceptance would have caused embarrassment to donor & U.S. Government.
Burns, William—Ambassador | Motorola Cellular Telephone GSM package with accessories. Recd—Unknown Est. Value—$536.00. Retain at the Embassy for Official Use | Greek Official at the Thessaloniki Trade Fair | Non-acceptance would have cause embarrassment to donor & U.S. Government.
Cook, Frances D.—Mother of Ambassador for Muscat | Set of traditional Omani Tribal Jewelry including necklace, ring, bracelet and earring. Recd—Late 1996. Est. Value—$700.00. Office of Protocol for disposition | Ghassan Al Khalili | Non-acceptance would caused embarrassment to donor & U.S. Government.
Cook, Frances D.—Mother of Ambassador for Muscrat | Two traditional Gold Omani Bracelets. Recd—December 26, 1997. Est. Value—$600.00. Office of Protocol for disposition | Almutasim Bin Hamoud Al Busaidi, Minister of State and Governor of Muscat | Non-acceptance would have cause embarrassment to donor & U.S. Government.
Dubai Consulate Political Officer | Gold Bracelet. Recd—October 1999. Est. Value—$274.00. Delivered to GSA on Sept. 7, 1999 | Leading Member of Dubai Business Community | Gift was present as a mark of courtesy. To refuse would have been counter to U.S. interests.
Duncan, Charles—White House Liaison Office | Eterna watch. Recd—November 1997. Est. Value—$2,550.00. Delivered to GSA on September 7, 1999 | Government of Bahrain | Non-acceptance would have caused embarrassment to donor & U.S. Government.
Fowler, Wyche—Ambassador | Harry Winston Timepiece (Watch). Recd—September 1998. Est. Value—$10,666.00. Delivered to GSA on Sept. 7, 1999 | Saudi Crown Abdullah bin Abdul Aziz Al Saud | Non-acceptance would have caused embarrassment to donor & U.S. Government.
George, Suzanne—Office of Secretary | Eterna watch. Recd—November 1997. Est. Value—$2,550.00. Delivered to GSA on September 7, 1999 | Government of Buhrain | Non-acceptance would have caused embarrassment to donor & U.S. Government.
Hale, David—Office of Secretary | Eterna watch. Recd—November 1997. Est. Value—$2,550.00. Delivered to GSA on September 7, 1999 | Government of Bahrain | Non-acceptance would have caused embarrassment to donor & U.S. Government.
Hartnett, Larry—Diplomatic Security | Eterna, watch. Recd—November 1997. Est. Value—$2,550.00. Delivered to GSA on September 7, 1999 | Government of Bahrain | Non-acceptance would have caused embarrassment to donor & U.S. Government.
Haycraft, Tom—Diplomatic Security | Eterna, watch. Recd—November 1997. Est. Value—$2,550.00. Delivered to GSA on September 7, 1999 | Government of Bahrain | Non-acceptance would have caused embarrassment to donor & U.S. Government.
Helal, Gemal—Interpreter | Eterna, watch. Recd—November 1997. Est. Value—$2,550.00. Delivered to GSA on September 7, 1999 | Government of Bahrain | Non-acceptance would have caused embarrassment to donor & U.S. Government.
Hicks, Delores—Line Assistant | Eterna, watch. Recd—November 1997. Est. Value—$2,550.00. Delivered to GSA on September 7, 1999 | Government of Bahrain | Non-acceptance would have caused embarrassment to donor & U.S. Government.
Hipp, Mark—Diplomatic Security | Eterna, watch. Recd—November 1997. Est. Value—$2,550.00. Delivered to GSA on September 7, 1999 | Government of Bahrain | Non-acceptance would have caused embarrassment to donor & U.S. Government.
Hurly, John—Diplomatic Security | Eterna, watch. Recd—November 1997. Est. Value—$2,550.00. Delivered to GSA on September 7, 1999 | Government of Bahrain | Non-acceptance would have caused embarrassment to donor & U.S. Government.
Inderfurth, Karl F.—Assistant Security | Eterna, watch. Recd—November 1997. Est. Value—$2,550.00. Delivered to GSA on September 7, 1999 | Government of Bahrain | Non-acceptance would have caused embarrassment to donor & U.S. Government.
Inderfurth, Karl F.—Asst. Sec. For South Asian Affairs | Lalique Crystal Clock. Recd—May 11, 1999. Est. Value—$260.00. Delivered to GSA on Sept. 7, 1999 | The Hinduja Group | Non-acceptance would have caused embarrassment to donor & U.S. Government.
Inderfurth, Karl F.—Asst. Sec. For South Asian Affairs | Sterling Silver dessert service (4 piece place settings for six). Recd—April 26, 1999.Est. Value—$2,130.00. Delivered to GSA on September 7, 1999 | Mr. Islom, President of Uzbekistan | Non-acceptance would have caused embarrassment to donor & U.S. Government.
Indyk, Martin—Assistant Secretary | Eterna, watch. Recd—November 1997. Est. Value—$2,550.00. Delivered to GSA on September 7, 1999 | Government of Bahrain | Non-acceptance would have caused embarrassment to donor & U.S. Government.
Indyk, Martin—Assistant Secretary | Versay Men's watch. Recd—October 7, 1999. Est. Value—$500.00. Office of Protocol for Disposition | General Samih Battikhi, Chief of Jordanian Intelligence | Non-acceptance would have caused embarrassment to donor & U.S. Government.
Indyk, Martin S. and wife—Asst. Sec. for Near East Affairs | Two Swiss Watches. Recd—October 1999. Est. Value—$260.00/$260.00. Office of Protocol for disposition | Abu Mazen, Secretary General, PLO Executive Committee | Non-acceptance would have caused embarrassment to donor & U.S. Government.
Koumans, Mark—Line Officer | Eterna, watch. Recd—November 1997. Est. Value—$2,550.00. Delivered to GSA on September 7, 1999 | Government of Bahrain | Non-acceptance would have caused embarrassment to donor & U.S. Government.
Krajeski, Thomas—Consul General | Mont Blanc Pen. Recd—October 1999. Est. Value—$800.00. Delivered to GSA on Sept. 7, 1999 | Leading Member of Dubai Business Community | Gift was presented as a mark of courtesy. To refuse would have been counter to US interests.
Krajeski, Thomas—Consul General | Tissot Chronograph. Recd—October 1999. Est. Value—$1,200.00. Delivered to GSA on Sept. 7, 1999 | Leading Member of Dubai Chamber of Commerce | Gift was presented as a mark of courtesy. To refuse would have been counter to US interests.
Lakhdhir, Kamala—Line Officer | Eterna, watch. Recd—November 1997. Est. Value—$2,550.00. Delivered to GSA on September 7, 1999 | Government of Bahrain | Non-acceptance would have caused embarrassment to donor & U.S. Government.
Lineberry, Laura Elizabeth—Secretary | Eterna, watch. Recd—November 1997. Est. Value—$2,550.00. Delivered to GSA on September 7, 1999 | Government of Bahrain | Non-acceptance would have caused embarrassment to donor & U.S. Government.
Lucas, Hillary—Gift Officer | Oyster Perpetual Date Watch. Recd—June 8, 1998. Est. Value—$11,700.00. Office of Protocol for disposition to GSA | The Amir of Bahrain | Non-acceptance would have caused embarrassment to donor & U.S. Government.
Luck, Al—Diplomatic Security | Eterna watch. Recd—November 1997. Est. Value—$2,550.00. Delivered to GSA on September 7, 1999 | Government of Bahrain | Non-acceptance would have caused embarrassment to donor & U.S. Government.
Maybus, Raymond E. Jr—Ambassador | 4.5 x 2″ Solid Silver Calendar, dipped in gold. Recd—January 9, 1998. Est. Value—$960.00. Office of Protocol for disposition | Ahmed Zaki Yamani of Dallah Real Estate and Tourism Company—Jeddah | Non-acceptance would have caused embarrassment to donor & U.S. Government.
Miller, Aaron—SMEC | Eterna, watch. Recd—November 1997. Est. Value—$2,550.00. Delivered to GSA on September 7, 1999 | Government of Bahrain | Non-acceptance would have caused embarrassment to donor & U.S. Government.
Moore, Alex—Diplomatic Security | Eterna watch. Recd—November 1997. Est. Value—$2,550.00. Delivered to GSA on September 7, 1999 | Government of Bahrain | Non-acceptance would have caused embarrassment to donor & U.S. Government.
Morningstar, Richard—Ambassador | 4x6 rug. Recd—February 19, 1999. Est. Value—$250-500.00. Retained at Embassy for Official Display | President Saparmurat Niyazov | Non-acceptance would have caused embarrassment to donor & U.S. Government.
Morningstar, Richard—Ambassador | 4x6 rug. Recd—April 26, 1999. Est. Value—$250-500.00. Retained for Official Display | President Heydar Aliyev, Azerbaijan | Non-acceptance would have caused embarrassment to donor & U.S. Government.
Morningstar, Richard—Ambassador | 4x6 rug. Recd—May 19, 1999. Est. Value—$250-500.00. Retained at the Embassy for Official Display | President Saparmurat Niyazov, Turkmenistan | Non-acceptance would have caused embarrassment to donor & U.S. Government.
Mussomeli, Joseph A.—Deputy Chief of Mission | Gold Omega Men's watch with one pair of gold cufflinks and gold Omega Lady's watch with diamonds, Two-strand Bahraini pearl necklace. Recd—September 23, 1998. Est. Value—$5700.00, $5,700.00, $7,960.00 ($19,360.00). Delivered to GSA on Sept. 7, 1999 | Amir, Shaikh Isa Bin Salman Al-Khalifa, Bahrain | Non-acceptance would have caused embarrassment to donor & U.S. Government.
Ogle, Karen—Foreign Service Officer | Diamond and White Gold Ring. Recd—June 22, 1999. Est. Value—$1850.00. Delivered to GSA on Sept. 7, 1999 | Princess Shamsa al-Saud, Jeddah | Non-acceptance would have caused embarrassment to donor & U.S. Government.
Petrihos, Peter—Deputy Executive Director | Eterna watch. Recd—November 1997. Est Value—$2,550.00. Delivered to GSA on September 7, 1999 | Government of Bahrain | Non-acceptance would have caused embarrassment to donor & U.S. Government.
Ransom, David—Ambassador (Retired) | Ebel Watch and $13,217.00 cash. Recd—February 1999. Est. Value—Above $260.00. Office of Protocol for disposition, money forwarded to appropriate agency | Amir of Bahrain | Non-acceptance would have caused embarrassment to donor & U.S. Government.
Ransom, David—Ambassador (Retired) | Rolex Watch and $26,490.00 cash. Recd—July 1998. Est. Value—Above $260.00. Office of Protocol for disposition, money forwarded to appropriate agency | Amir of Bahrain | Non-acceptance would have caused embarrassment to donor & U.S. Government.
Ransom, David—Ambassador (Retired) | Rolex Watch and $25,000.00 cash. Recd—June 1998. Est. Value—Above $260.00. Office of Protocol for disposition, money forwarded to appropriate agency | Amir of Bahrain | Non-acceptance would have caused embarrassment to donor & U.S. Government.
Ransom, David—Ambassador (Retired) | Rolex Watch and $52,966.88 cash. Recd—November 97. Est. Value—Above $260.00. Office of Protocol for disposition, Money forwarded to appropriate agency | Amir of Bahrain | Non-acceptance would have caused embarrassment to donor & U.S. Government.
Ransom, Marjorie—Foreign Service Officer | Gold Bracelet with pearls. Recd—October 1999. Est. Value—Above $260.00. Office of Protocol for disposition | Foreign Minister of Bahrain | Non-acceptance would have caused embarrassment to donor & U.S. Government.
Reside, Julie—Public Affairs | Eterna watch. Recd—November 1997. Est. Value—$2,550.00. Delivered to GSA on September 7, 1999 | Government of Bahrain | Non-acceptance would have caused embarrassment to donor & U.S. Government.
Riyadh—Consular Section at Embassy Saudi Arabia | Longines Timepiece, Roamer of Switzerland watch with metal band (2), Roamer of Switzerland with leather band. Recd—January 31, 1999. Est. Value—$322.66, 133.33, 133.33, 120.00 = $709.32. Office of Protocol for Disposition | H.R.H. Prince Turki Al-Faisal bin Abdul Aziz al Saud, Director of Intelligence | Non-acceptance would have caused embarrassment to donor & U.S. Government.
Roy, J. Stapleton—Ambassador | A boxed piece of Silk Batik Fabric. Recd—Unknown. Est. Value—$600.00. Retained at the Embassy for Official Display | President Habibie, Indonesia | Non-acceptance would have caused embarrassment to donor & U.S. Government.
Roy, J. Stapleton—Ambassador | A Boxed Silver and Pewter Tea Service. Recd—Unknown. Est. Value—$1250.00. Retained at the Embassy for Official Use | President Habibie, Indonesia | Non-acceptance would have caused embarrassment to donor & U.S. Government.
Rubin, James P.—Assistant Secretary and Spokesman | Pocket watch with the country's seal and tradition cap. Recd—08/17/99. Est. Value—$275.00. Office of Protocol for Disposition | Unknown | Non-acceptance would have caused embarrassment to the donor and the United States Government.
Rubin, James P.—Spokesperson | Eterna watch. Recd—November 1997. Est. Value—$2,550.00. Delivered to GSA on September 7, 1999 | Government of Bahrain | Non-acceptance would have caused embarrassment to donor & U.S. Government.
Shinnick, Richard—Deputy Executive Director | Eterna watch. Recd—November 1997. Est. Value—$2,550.00. Delivered to GSA on September 7, 1999 | Government of Bahrain | Non-acceptance would have caused embarrassment to donor & U.S. Government.
Shocas, Elaine—Chief of Staff | Eterna watch. Recd—November 1997. Est. Value—$2,550.00. Delivered to GSA on September 7, 1999 | Government of Bahrain | Non-acceptance would have caused embarrassment to donor & U.S. Government.
Stocking, Tom—Diplomatic Security | Eterna watch. Recd—November 1997. Est. Value—$2,550.00. Delivered to GSA on September 7, 1999 | Government of Bahrain | Non-acceptance would have caused embarrassment to donor & U.S. Government.
Sweeney, Lynn—Computer Specialist | Eterna watch. Recd—November 1997. Est. Value—$2,550.00. Delivered to GSA on September 7, 1999 | Government of Bahrain | Non-acceptance would have caused embarrassment to donor & U.S. Government.
Tucker, Nichole—Secretary | Eterna watch. Recd—November 1997. Est. Value—$2,550.00. Delivered to GSA on September 7, 1999 | Government of Bahrain | Non-acceptance would have caused embarrassment to donor & U.S. Government.
USUN | Two Carpets: 139″ x 102″ plus fringe, wool on cotton, red field with many octagon and cross medallions, multiple borders, Pakistani Bokhara. Recd—April 1998. Est. Value—$1500.00 each. Delivered to GSA on Sept. 7, 1999 | Visiting Delegation of Afghanistan | Non-acceptance would have caused embarrassment to donor & U.S. Government.
USUN | Three (3) wool pile hand knotted carpets. Recd—April 1998. Est. Value—$300.00 ea. ($900.00). Retained at the Embassy for Official Use | Visiting Delegation of Afghanistan | Non-acceptance would have caused embarrassment to donor & U.S. Government.
USUN | Two Carpets: 154″ x 230″ and 148″ x 226″ plus fringe, wool on cotton, red field with many octagonal and cross medallions, multiple borders, Pakistani Bokhara. Recd—April 1998. Est. Value—$2250.00 each. Delivered to GSA on Sept. 7, 1999 | Visiting Delegation from Afghanistan | Non-acceptance would have caused embarrassment to donor & U.S. Government.
Welch, David C.—Ambassador | 4.5 x 2″ Solid Silver Calendar dipped in gold. Recd—January 9, 1998. Est. Value—$960.00. Office of Protocol for Disposition | Ahmed Zaki Yamani of Dallah Real Estate and Tourism Co.—Jeddah | Non-acceptance would have caused embarrassment to donor & U.S. Government.
Wills, Laura B.—Assist. Chief of Protocol, Visits | Raymond Weil Geneve Watch. Recd—November 5, 1999. Est. Value—$500.00. In the Office of Protocol for Disposition | Crown Prince Sultan bin Abdul Aziz, Saudi Arabia | Non-acceptance would have caused embarrassment to donor & U.S. Government.
Woodward, William—Speechwriter | Eterna watch. Recd—November 1997. Est. Value—$2,550.00. Delivered to GSA on September 7, 1999 | Government of Bahrain | Non-acceptance would have caused embarrassment to donor & U.S. Government.
Young, Johnny—Ambassador | Pair of men's cufflinks in white gold with onyx and diamonds, pair of women's earrings and one ring with two-toned gold with diamonds. Recd—July 13, 1998. Est. Value—$3,580.00, $3,980.00 ($26,920.00). Delivered to GSA on Sept. 7, 1999 | Amir Shaikh Isa Bin Salman Al-Khalifa, Bahrain | Non-acceptance would have caused embarrassment to donor & U.S. Government.
Young, Johnny—Ambassador | Men's Piaget wristwatch in white gold with date function and women's Piaget wristwatch in white gold with diamond chips. Recd—February 22, 1999. Est. Value—$12,000.00 & $11,400.00 ($23, 400.00) Office of Protocol for Disposition | Amir, Shaikh Isa bin Salman Al-Khalifa, Bahrain | Non-acceptance would have caused embarrassment to donor & U.S. Government.
Young, Johnny—Ambassador | Men's Piaget wristwatch in white gold with date function and women's Piaget wristwatch in white gold with diamond chips. Recd—February 22, 1999. Est. Value $12,000 and $11,400.00 ($23,400.00). Delivered to GSA on Sept 7, 1999 | Amir, Shaikh Isa bin Salman Al-Khalifa, Bahrain | Non-acceptance would have caused embarrassment to donor & U.S. Government.

Report of Travel or Expenses of Travel—1999
Name and title | Brief description | Identity of foreign donor | Circumstances
National Council on Disability
Blank, Kathleen—Program Specialist | Recd—July 18, 1999. Est. Value—$4,170.00. Expended for airfare, hotel, meals and conference registration for speaking engagement in Kuala Lumpur, Malaysia | Airports Council International, Richmond, B.C., Canada | To present paper and guest speak at conference.
U.S. General Accounting Office
Epstein, David—GAO Evaluator | Recd—November 19-24, 1999. Est. Value—$800.00. Expended for airfare, hotel and meals | Barbados Tourist Board, Barbados | To become a specialist in the field of travel/tourism for Barbados as related to Mr. Epstein's ownership of a travel agency.
United States House of Representatives
Hilliard, Earl—Member of Congress | Recd—April 2, 1999. Est. Value—$not submitted. Air transportation from Amman to Petra, Jordan and back | Hashemite Kingdom of Jordan | Authorized by 5 U.S.C. 7342(c)(1)(B)(ii).
Burr, Richard—Member of Congress | Recd—August 11-14, 1999. Est. Value—$not submitted. Air transport, rail travel, boat tour, meals and lodging for Member and spouse in Oslo and Bergen, Norway | Norway | Authorized by 5 U.S.C. 7342(c)(1)(B)(ii).
Campbell, Tom—Member of Congress | Recd—Nov. 24-25, 1999. Est. Value—$not submitted. Air transportation between Rangoon, Keng Tung, and Tachileik, Burma | Burma | Authorized by 5 U.S.C. 7342(c)(1)(B)(ii).
Cardin, Benjamin—Member of Congress | Recd—May 28-30, 1999. Est. Value—$not submitted. Meals, lodging and ground transportation for Member and spouse in Belfast, Northern Ireland | United Kingdom of Great Britain | Authorized by 5 U.S.C. 7342(c)(1)(B)(ii).
Carson, Julia—Member of Congress | Recd—May 28-30, 1999. Est. Value—$not submitted. Meals, lodging and ground transportation in Belfast, Northern Ireland | United Kingdom of Great Britain | Authorized by 5 U.S.C. 7342(c)(1)(B)(ii).
Gilman, Benjamin—Member of Congress | Recd—April 2, 1999. Est. Value—$not submitted. Air transportation from Amman to Petra, Jordan and back | Hashemite Kingdom of Jordan | Authorized by 5 U.S.C. 7342(c)(1)(B)(ii).
Van Wicklin, Robert W.—Rep. Houghton | Recd—May 28-29, 1999. Est. Value—$not submitted. Meals and ground transportation in Belfast, Northern Ireland | United Kingdom of Great Britain | Authorized by 5 U.S.C. 7342(c)(1)(B)(ii).
Greenwood, James C.—Member of Congress | Recd—May 28-30, 1999. Est. Value—$not submitted. Food, lodging and ground transportation for Member and spouse in Belfast, Northern Ireland | United Kingdom of Great Britain | Authorized by 5 U.S.C. 7342(c)(1)(B)(ii).
Hobson, David—Member of Congress | Recd—August 11-14, 1999. Est. Value—$not submitted. Transportation from Stockholm to Oslo and return, and in-country lodging, meals, and transportation for Member and spouse among Myrdal, Flom, Gudvangen and Bergen, Norway | Norway | Authorized by 5 U.S.C. 7342(c)(1)(B)(ii).
Houghton, Amory Jr.—Member of Congress | Recd—May 28-30, 1999. Est. Value—$not submitted. Meals, lodging and ground transportation for Member and spouse in Belfast, Northern Ireland | United Kingdom of Great Britain | Authorized by 5 U.S.C. 7342(c)(1)(B)(ii).
Johnson, Eddie Bernice—member of Congress | Recd—May 28-30, 1999. Est. Value—$not submitted. Meals, lodging and ground transportation for Member and spouse in Belfast, Northern Ireland | United Kingdom of Great Britain | Authorized by 5 U.S.C. 7342(c)(1)(B)(ii).
Ford, James Dr.—House Chaplin | Recd—April 2, 1999. Est. Value—$not submitted. Air transportation from Amman to Petra, Jordan and back | Hashemite Kingdom of Jordan | Authorized by 5 U.S.C. 7342(c)(1)(B)(ii).
Filner, Bob—Member of Congress | Recd—April 2, 1999. Est. Value—$not submitted. Air transportation from Amman to Petra, Jordan and back | Hashemite Kingdom of Jordan | Authorized by 5 U.S.C. 7342(c)(1)(B)(ii).
Roberts, Kimberly—International Relations Comm | Recd—April 2, 1999. Est. Value—$not submitted. Air transportation from Amman to Petra, Jordan and back | Hashemite Kingdom of Jordan | Authorized by 5 U.S.C. 7342(c)(1)(B)(ii).
McNulty, Michael R.—Member of Congress | Recd—May 28-30, 1999. Est. Value—$not submitted. Meals, lodging and ground transportation in Belfast, Northern Ireland | United Kingdom of Great Britain | Authorized by 5 U.S.C. 7342(c)(1)(B)(ii).
Olson, Susan L.—Rep. Bereuter | Recd—August 24-September 2, 1999. Est. Value—$not submitted. Lodging in Istanbul, Antalyla and Ankara, Turkey | Republic of Turkey | Authorized by 5 U.S.C. 7342(c)(1)(B)(ii).
Munson, Lester—International Relations Comm | Recd—April 2, 1999. Est. Value—$not submitted. Air transportation from Amman to Petra, Jordan and back | Hashemite Kingdom of Jordan | Authorized by 5 U.S.C. 7342(c)(1)(B)(ii).
Conzelman, James K.—Rep. Oxley | Recd—August 11-14, 1999. Est. Value—$not submitted. Transportation from Stockholm to Oslo and return, and in-country lodging, meals, and transportation for Member and spouse among Myrdal, Flom, Gudvangen and Bergen, Norway | Norway | Authorized by 5 U.S.C. 7342(c)(1)(B)(ii).
Clack, Mark—International Relations Comm | Recd—April 2, 1999 Est. Value—$not submitted. Air transportation from Amman to Petra, Jordan and back | Hashemite Kingdom of Jordan | Authorized by 5 U.S.C. 7342(c)(1)(B)(ii).
Bodlander, Deborah—International Relations Comm | Recd—April 2, 1999. Est. Value—$not submitted. Air transportation from Amman to Petra, Jordan and back | Hashemite Kingdom of Jordan | Authorized by 5 U.S.C. 7342(c)(1)(B)(ii).
Bloomer, Nancy Shuba—International Relations Comm | Recd—April 2, 1999. Est. Value—$not submitted. Air transportation from Amman to Petra, Jordan and back |  | Authorized by 5 U.S.C. 7342(c)(1)(B)(ii).
Wolf, Frank—Member of Congress | Recd—August 29, 1999. Est. Value—$not submitted. Airline flight from Rome to Pristina and helicopter flight over Pristina, Gjacova and Prizren for Member and spouse | World Food Programme (UN) | Authorized by 5 U.S.C. 7342(c)(1)(B)(ii).
Sanders, Bernard—Member of Congress | Recd—April 2, 1999. Est. Value—$not submitted. Air transportation from Amman to Petra, Jordan and back | Hashemite Kingdom of Jordan | Authorized by 5 U.S.C. 7342(c)(1)(B)(ii).
Oxley, Michael—Member of congress | Recd—August 11-14, 1999. Est. Value—$not submitted. Transportation from Stockholm to Oslo and return, and in-country lodging, meals and transportation for Member and spouse among Myrdal, Flom, Gudvangen and Bergen, Norway | Norway | Authorized by 5 U.S.C. 7342(c)(1)(B)(ii).
Flanders, David Alan—Rep. Thompson | Recd—August 24-26, 1999. Est. Value—$not submitted. Luncheon and dinner in Japan | Japan | Authorized by 5 U.S.C. 7342(c)(1)(B)(ii).
United States Senate
Walsh, Sally—Director, Interparliamentary Services | Recd—August 13-15, 1999. Est. Value—$not submitted. Transportation within Cuba to official meetings via two sedans and one minivan | Government of Cuba | Non-acceptance would cause host government embarrassment.
Dorgan, Byron L.—U.S. Senator | Recd—August 13-15, 1999. Est. Value—$not submitted. Official meetings via two sedans and one minivan | Government of Cuba | Non-acceptance would cause host government embarrassment.
Daschle, Tom—U.S. Senator | Recd—August 13-15, 1999. Est. Value—$not submitted. Official meetings via two sedans and one minivan | Government of Cuba | Non-acceptance would cause host government embarrassment.
Bob, Daniel—Special Assistant to Senator Roth | Recd—January 11-15, 1999. Est. Value—$not submitted. Meals and transportation within Peru | Government of Peru | Non-acceptance would cause host government embarrassment.
Daschle, Linda—Spouse of Senator | Recd—August 13-15, 1999. Est. Value—$not submitted. Official meetings via two sedans and one minivan | Government of Cuba | Non-acceptance would cause host government embarrassment.
Dorgan, Kim—Spouse of Senator | Recd—August 13-15, 1999. Est. Value—$not submitted. Official meetings via two sedans and one minivan | Government of Cuba | Non-acceptance would cause host government embarrassment.
Roberts, Pat—U.S. Senator | Recd—August 12-14, 1999. Est. Value—$not submitted. Transportation, lodging and meals within Norway during an official visit | Government of Norway | Official travel to participate in official meetings.
Roberts, Frankie—Spouse of Senator | Recd—August 12-14, 1999. Est. Value—$not submitted. Transportation, lodging and meals within Norway during an official visit | Government of Norway | Official travel to participate in official meetings.
Twining, Daniel C.—Legislative Correspondent to Senator McCain | Recd—April 7-8, 1999. Est. Value—$not submitted. Round-trip transportation between Brussels, Belgium and Tirana, Albania aboard Belgian military aircraft to attend official meetings | Government of Belgium | No commercial travel available.
Twining, Daniel C.—Legislative Correspondent to Senator McCain | Recd—May 12, 1999. Est. Value—$not submitted. Transportation from Brussels, Belgium to Skopje, Macedonia aboard Belgian military aircraft to attend official meetings | Government of Belgium | No commercial travel available.
Waldren, Howard—Legislative Assistant to Senator Dorgan | Recd—August 13-15, 1999. Est. Value—$not submitted. Transportation within Cuba to official meetings via two sedans and one minivan | Government of Cuba | Non-acceptance would cause host government embarrassment.
Van Dum, Bradley—Legislative Assistant for Defense for Senator Daschle | Recd—August 13-15, 1999. Est. Value—$not submitted. Transportation within Cuba to official meetings via two sedans and one minivan | Government of Cuba | Non-acceptance would cause host government embarrassment.

[FR Doc. 00-6858 Filed 3-23-00; 8:45 am]

BILLING CODE 4710-20-M